POSTAL SERVICE

Change in Rates of General Applicability for Competitive Products

AGENCY: Postal Service.™

ACTION: Notice of a change in rates of general applicability for competitive products.

SUMMARY: This notice sets forth changes in rates of general applicability for competitive products.

DATES: Effective Date: January 18, 2009.

FOR FURTHER INFORMATION CONTACT: Daniel J. Foucheaux, Jr., 202-268-2989.

SUPPLEMENTARY INFORMATION: On November 12, 2008, pursuant to their authority under 39 U.S.C. 3632, the Governors of the Postal Service established prices and classification changes for competitive products. The Governors' Decision and the record of proceedings in connection with such decision are reprinted below in accordance with § 3632(b)(2). Implementing regulations are published elsewhere in this issue.

Neva R. Watson,
Attorney, Legislative.

Decision of the Governors of the United States Postal Service on Changes in Rates and Classes of General Applicability for Competitive Products (Governors' Decision No. 08-19)

November 12, 2008.

Statement of Explanation and Justification

Pursuant to our authority under section 3632 of title 39, as amended by the Postal Accountability and Enhancement Act of 2006 (“PAEA”), we establish new prices of general applicability for the Postal Service's shipping services (competitive products), and such changes in classifications as are necessary to define the new prices. The changes are described in the analysis provided by management in Attachment A and the prices and classification are shown in full in Attachment B. We have reviewed management's analysis and have evaluated the new prices and classification changes in accordance with 39 U.S.C. 3632-3633 and 39 CFR 3015.2. We approve the changes set forth in Attachment B, finding that they are appropriate, and are consistent with the regulatory criteria.

For Express Mail service, the overall increase is approximately 5.7 percent. In addition, the current Commercial Volume Incentives category, which provides quarterly rebates for commercial customers who mail specified volumes, is replaced by a Commercial Plus category that provides lower prices, rather than rebates, for customers meeting specified volume levels. Lower prices for customers paying postage online and through authorized payment methods are continued, and the classification is extended to allow customers paying through use of qualifying metered systems to be eligible for these lower prices.

For Priority Mail service, the overall price increase is 3.9 percent. A Commercial Plus category, similar to the one for Express Mail service, is added to Priority Mail service to provide lower prices for customers who mail specified volumes. A small flat-rate box is also added as a new Priority Mail option, in addition to the current regular and large flat-rate boxes. Incentives for customers paying postage online and through authorized payment methods are maintained and are being extended to customers paying through qualifying metered systems.

For Parcel Select service, the overall average price increase is 5.9 percent. Prices are designed to encourage dropshipping at destination delivery units, which are the facilities closest to the delivery point of the parcels.

For Parcel Return Service, prices have an overall increase of 5.3 percent. Prices are designed to encourage pickup at return delivery units, which are the facilities closest to entry of the returned parcels.

For Global Express Guaranteed service, the average price increase is 11.2 percent. Price increases vary by country group and weight increment. A lower online price remains available as does a lower price for customers paying through an authorized PC postage vendor. This lower price is now extended to qualifying customers paying postage through information-based indicia postage meters. Even with the overall price increase, this service should remain competitive.

For Express Mail International service, prices will increase, on average, by 8.5 percent. Price increases vary by country group and weight increment. A lower online price remains available, as does a lower price for customers paying through an authorized PC postage vendor. This incentive will now be made available to qualifying customers paying through information-based indicia postage meters. Also, incentives will continue for customers who pay their postage through either permit imprint or an Express Mail Corporate Account and who use authorized mail preparation software. The country group structure for this service is expanded from nine to ten country groups.

For Priority Mail International service, price increases, on average, are 8.5 percent. Different increases apply depending on the weight and country group. Prices are set to fit logically between Express Mail International and First-Class Mail International. Incentives to pay postage online or through an authorized PC postage vendor remain and will be extended to qualifying customers paying through information-based indicia postage meters. A lower price is maintained for customers who pay postage by permit imprint coupled with use of authorized mail preparation software. A small-size flat-rate box is also added as a new Priority Mail International shipping option. As with Express Mail International, the country group structure is expanded from nine to ten country groups.

For International Direct Sacks—M-Bags (Airmail M-Bags), prices rise about 8.0 percent. Prices remain weight-based and the country group structure is unchanged.

As described in Attachment A, these changes satisfy the statutory requirements. They should not result in the subsidization of competitive products by market dominant products (39 U.S.C. 3633(a)(1)). Each competitive product should cover its attributable costs (39 U.S.C. 3633(a)(2)). They should allow competitive products as a whole to comply with 39 U.S.C. 3633(a)(3), which, as implemented by 39 CFR 3015.7(c), requires competitive products to contribute a minimum of 5.5 percent to the Postal Service's total institutional costs.

Order

The changes in prices and classes set forth herein shall be effective at 12:01 a.m. on January 18, 2009. We direct the Secretary to have this decision published in the Federal Register in accordance with 39 U.S.C. 3632(b)(2). We also direct management to file with the Postal Regulatory Commission appropriate notice of these changes.

By The Governors.

Alan C. Kessler,

Chairman.

Analysis of Competitive Products' Price and Classification Change

I. Express Mail

Overall the Express Mail price change represents a 5.7 percent increase. This balances the need to increase profitability while positioning Express Mail for growth. Customers embraced last year's shift to industry-standard, zone-based Express Mail pricing and the Postal Service benefited from its ability to charge a more market-driven price for Express Mail traveling more than 750 miles. The zoned Retail prices will be maintained this year with an average increase of 5.9 percent. The price for the Retail flat-rate envelope, almost half of all Express Mail volume, will increase by 6 percent to $17.50.

The existing Commercial Base price category is maintained for customers who use online and other authorized postage payment methods. The methods were previously specified, but the classification language is generalized to allow the price category to be extended to customers who use qualifying metered postage payment methods. The Commercial Base prices discount off retail prices increases from 3 to 5 percent, resulting in an average price increase of 3.7 percent.

A new Commercial Plus price category will replace the current Volume Incentives category, under which customers mailing specified volumes were eligible for quarterly rebates. The Commercial Plus category will make it easier for merchants to pass their savings in shipping costs on to their customers, since they do not have to wait until the end of a quarter to receive the incentive. Providing this faster incentive should help increase Express Mail revenue. Commercial Plus pricing will be offered to customers who ship 6,000 Express Mail pieces annually. This should allow the Postal Service to provide attractive incentives to higher volume customers. The new Commercial Plus prices will reflect a roll-in of the rebate to the upfront price. All customers who qualify for the new Commercial Plus prices would have received the maximum rebate previously, so essentially these customers will have no price increase.

II. Priority Mail

Overall, Priority Mail prices will increase by 3.9 percent. There is no change to the basic structure of the published Retail prices or Commercial Base prices. A new small size flat-rate box will be added. Retail prices will increase 4.7 percent.

Commercial Base pricing will offer on average a 4.8 percent discount off retail prices for customers using online and other authorized postage payment methods; such methods will be extended to include qualifying metered postage payment methods.

A new price category, Commercial Plus, will be available to customers who ship more than 100,000 Priority Mail pieces or more than 600 Priority Mail Open and Distribute containers annually. As with the similar Express Mail category, this new category will provide incentives for volume and revenue growth from higher volume customers. Commercial Plus prices are discounted on average 7 percent off Retail prices; this represents an average price increase of 1 percent from current Commercial Base prices.

III. Parcel Select

On average, Parcel Select prices will increase 5.9 percent. The average price increase for DDU entry is 4.7 percent, for DSCF 6.8 percent and for DBMC 9.1 percent. The higher than average price increase for DBMC parcels will increase DBMC margins and further encourage customers to bring packages to the DDU.

IV. Parcel Return Service

Parcel Return Service prices will have an overall price increase of 5.3 percent. RBMC prices will increase 7.1 percent, with no increase for RDU prices, which already provide healthy margins.

V. International Mail

In International shipping services, prices increase approximately 8.5 percent. Prices increase for Global Express Guaranteed (GXG), Express Mail International (EMI), Priority Mail International (PMI) and International Direct Sacks (M-Bags). The published discount program introduced in May 2008 for commercial package mailers will not change.

A. Global Express Guaranteed (GXG)

Global Express Guaranteed (GXG) provides reliable, high speed, date-certain service with a money-back delivery guarantee to more than 190 countries and is provided through an alliance with FedEx. Published GXG prices will increase 11.2 percent. The published online discount of 10 percent will continue for customers paying postage online or though authorized PC postage vendors, and will be extended to qualifying customers paying through information-based indicia postage meters. Price increases vary by country group and weight increments.

B. Express Mail International (EMI)

Express Mail International (EMI) provides reliable, high speed service to over 190 countries with a money-back delivery guarantee for selected countries. The published EMI prices increase an average of 8.5 percent. Price increases vary by country group and weight increments. In addition, due to increased costs, a separate rate group for Australia and New Zealand is added. Express Mail International (EMI) customers using Click-N-Ship or other online applications as well as those paying through authorized PC postage vendors will continue to pay 8 percent less than retail prices and this incentive will be extended to qualifying customers paying through information-based indicia postage meters. Customers who pay postage by permit imprint and use authorized mail preparation software also will continue to pay 8 percent less than retail. Customers who pay postage through an Express Mail Corporate Account and who use authorized mail preparation software will continue to pay prices 8, 10 or 12 percent lower than retail, depending upon annual volume or postage.

C. Priority Mail International (PMI)

Priority Mail International (PMI) is a reliable, cost-effective way to send merchandise and documents to over 190 countries. PMI prices are lower than EMI and higher than First-Class Mail International (FCMI). The published price for PMI will increase 8.5 percent, on average. Price increases vary by country group and weight increments. In addition, due to increased costs, a separate rate group for Australia and New Zealand is added. Priority Mail International customers using Click-N-Ship or other online applications as well as those paying through authorized PC postage vendors will continue to get a discount of 5 percent and this incentive will be extended to qualifying customers paying through information-based Indicia postage meters. Also, customers who pay postage by permit imprint and use authorized mail preparation software will continue to pay prices 5 percent less than retail.

The new small flat-rate box also will be available for international shipping, and will be priced at the same rate and meet the same size and content requirements as the Priority Mail International flat-rate envelope.

D. International Direct Sacks—M-Bags

International Direct Sacks—M-Bags (Airmail M-Bags) are direct sacks of printed matter and non-dutiable merchandise sent to one addressee with weight-based prices. The Airmail M-Bag prices will increase, on average, by 8.0 percent.

VI. Summary

As shown in the nonpublic annex, the price changes should enable each competitive product to cover its attributable costs (39 U.S.C. 3633(a)(2)) and should result in competitive products as a whole complying with 39 U.S.C. 3633(a)(3), which, as implemented by 39 CFR 3015.7(c), requires competitive products to contribute a minimum of 5.5 percent to the Postal Service's institutional costs. Accordingly, no issue of subsidization of competitive products by market dominant products should arise (39 U.S.C. 3633(a)(1)).

PART B—COMPETITIVE PRODUCTS

2000 Competitive Product List

2001 Competitive Product Descriptions

2100 DOMESTIC PRODUCTS

2105 Express Mail

2110 Priority Mail

2115 Parcel Select

2120 Parcel Return Service

2125 Premium Forwarding Service

2200 INTERNATIONAL PRODUCTS

2205 Outbound International Expedited Services

2210 Inbound Express Mail International (EMS)

2215 Outbound Priority Mail International

2220 Inbound Air Parcel Post

2225 International Priority Airmail (IPA)

2230 International Surface Airlift (ISAL)

2235 International Direct Sacks—M—Bags

2240 International Money Transfer Service

2245 Inbound Surface Parcel Post (at non-UPU rates)

2250 International Ancillary Services

2250.1 International Certificate of Mailing

2250.2 International Registered Mail

2250.3 International Return Receipt

2250.4 International Restricted Delivery

2250.5 International Insurance

2250.6 Custom Clearance and Delivery Fee

2300 NEGOTIATED SERVICE AGREEMENTS

2305 Domestic

2310 Outbound International

2315 Inbound International

2320 Inbound Direct Entry Contracts with Foreign Postal Administrations

2001 Competitive Product Descriptions

The product descriptions provided in this document include information necessary for maintaining the competitive product list pursuant to the Postal Accountability and Enhancement Act of 2006 (Pub. L. 109-435). For specific standards relating to postal products and services, including preparation and mailing requirements, please refer to the latest versions of the Domestic Mail Manual and the International Mail Manual, which are published and maintained by the United States Postal Service.

2100 DOMESTIC PRODUCTS

2105 Express Mail

2105.1 Description

a. Express Mail service provides a high speed, high reliability service. It is available from designated acceptance locations to designated postal facilities for delivery to the recipient, or, optionally, pickup by the recipient. Drop-off, pick-up, and delivery times are specified by the Postal Service for particular locations and days of the week. Delivery is either overnight, on the second day, or on the second delivery day (the next delivery day following the second day), for particular locations and days of the week.

b. Any matter eligible for mailing may, at the option of the mailer, be mailed by Express Mail service.

c. Claims for refunds of postage for not meeting applicable standards must be filed within the period of time and under terms and conditions specified in the Domestic Mail Manual.

d. Express Mail pieces are sealed against postal inspection and shall not be opened except as authorized by law.

e. Express Mail pieces that are undeliverable-as-addressed are entitled to be forwarded or returned to the sender without additional charge.

f. Insurance, up to $100.00, is included in Express Mail postage. Additional insurance (Express Mail Insurance) is available for an additional charge, depending on the value and nature of the item sent by Express Mail service.

2105.2 Size and Weight Limitations

| Length | Height | Thickness | Weight
Minimum | Large enough to accommodate postage, address, and other required elements on the address side |  |  | None.
Maximum | 108 inches in combined length and girth |  |  | 70 pounds.
Flat-Rate Envelope | Nominal Size: 9.5 x 12.5 inches |  |  |

2105.3 Minimum Volume Requirements

| Minimum volume requirements
Express Mail | None.

2105.5 Optional Features

The following additional postal services may be available in conjunction with the product specified in this section:

• Pickup On Demand

• Ancillary Services (1505)

○ Address Correction Service (1505.1)

○ Collect On Delivery (1505.7)

○ Express Mail Insurance (1505.9)

○ Return Receipt (1505.13)

2105.6 Prices

Retail Zone/Weight

Maximum weight (pounds) | Zones 1 & 2 ($) | Zone 3 ($) | Zone 4 ($) | Zone 5 ($) | Zone 6 ($) | Zone 7 ($) | Zone 8 ($)
0.5 | 13.05 | 15.20 | 18.50 | 19.80 | 20.10 | 20.90 | 21.20
1 | 15.00 | 19.80 | 23.60 | 24.20 | 24.70 | 25.05 | 25.15
2 | 16.30 | 20.90 | 25.95 | 26.55 | 27.05 | 27.25 | 27.65
3 | 17.30 | 22.20 | 29.85 | 30.55 | 31.15 | 31.35 | 31.65
4 | 18.60 | 23.60 | 33.75 | 35.00 | 35.15 | 35.30 | 35.60
5 | 19.30 | 25.25 | 37.60 | 39.00 | 39.10 | 39.30 | 39.60
6 | 22.60 | 30.35 | 41.10 | 42.90 | 43.00 | 43.20 | 43.70
7 | 25.95 | 35.40 | 44.95 | 46.25 | 46.95 | 47.25 | 47.55
8 | 27.25 | 36.50 | 48.40 | 50.25 | 51.05 | 51.25 | 51.65
9 | 28.75 | 38.00 | 51.80 | 54.25 | 55.00 | 55.20 | 55.60
10 | 29.65 | 39.60 | 54.20 | 56.90 | 57.80 | 58.00 | 58.40
11 | 32.35 | 44.30 | 57.90 | 59.70 | 60.60 | 60.80 | 61.20
12 | 32.95 | 47.45 | 61.00 | 62.40 | 63.40 | 63.50 | 63.90
13 | 33.35 | 50.45 | 63.80 | 65.15 | 66.05 | 66.85 | 67.65
14 | 34.45 | 53.55 | 66.35 | 67.85 | 68.85 | 69.75 | 70.45
15 | 36.50 | 56.60 | 69.15 | 70.65 | 71.65 | 72.35 | 73.25
16 | 37.50 | 59.80 | 71.85 | 73.45 | 74.70 | 74.80 | 75.00
17 | 39.60 | 62.90 | 74.55 | 76.10 | 77.20 | 77.40 | 77.80
18 | 41.70 | 65.85 | 77.20 | 78.90 | 80.00 | 80.20 | 80.60
19 | 42.80 | 68.95 | 79.90 | 81.60 | 82.70 | 82.90 | 83.30
20 | 44.80 | 72.15 | 83.80 | 85.05 | 85.95 | 86.45 | 87.05
21 | 46.05 | 76.60 | 86.45 | 87.65 | 89.75 | 90.05 | 90.25
22 | 48.15 | 79.80 | 90.25 | 91.65 | 92.55 | 92.85 | 93.75
23 | 49.15 | 82.90 | 92.95 | 94.45 | 95.40 | 95.60 | 96.50
24 | 51.25 | 86.05 | 95.90 | 97.20 | 98.30 | 98.40 | 98.60
25 | 53.45 | 89.25 | 98.20 | 100.00 | 101.00 | 101.20 | 101.70
26 | 54.45 | 92.45 | 101.10 | 102.80 | 103.80 | 104.10 | 104.55
27 | 56.50 | 95.50 | 103.70 | 105.45 | 106.55 | 106.85 | 107.35
28 | 57.60 | 98.70 | 107.05 | 108.25 | 109.35 | 109.65 | 110.15
29 | 59.70 | 101.80 | 110.55 | 111.05 | 112.15 | 112.45 | 112.85
30 | 61.80 | 104.95 | 114.05 | 114.35 | 115.40 | 115.70 | 116.50
31 | 62.80 | 108.05 | 117.50 | 117.80 | 119.00 | 119.30 | 120.10
32 | 64.85 | 111.35 | 121.00 | 121.40 | 122.50 | 122.80 | 123.70
33 | 65.95 | 114.45 | 124.45 | 124.85 | 126.05 | 126.35 | 127.25
34 | 68.05 | 117.50 | 128.05 | 128.35 | 129.55 | 129.85 | 130.85
35 | 69.15 | 120.70 | 131.45 | 131.95 | 133.05 | 133.45 | 134.40
36 | 71.15 | 123.90 | 135.00 | 135.40 | 136.70 | 137.00 | 138.00
37 | 73.25 | 126.95 | 138.50 | 138.90 | 140.30 | 140.60 | 141.60
38 | 74.35 | 130.15 | 142.00 | 142.50 | 143.80 | 144.10 | 145.15
39 | 76.40 | 133.35 | 145.55 | 145.95 | 147.15 | 147.55 | 148.75
40 | 77.40 | 136.40 | 149.05 | 149.45 | 150.75 | 151.15 | 152.35
41 | 79.50 | 139.60 | 152.55 | 153.05 | 154.40 | 154.60 | 155.90
42 | 81.60 | 142.80 | 156.00 | 156.50 | 158.00 | 158.20 | 159.50
43 | 82.70 | 145.85 | 159.50 | 160.10 | 161.50 | 161.80 | 163.10
44 | 84.75 | 149.05 | 163.00 | 163.60 | 165.05 | 165.35 | 166.65
45 | 85.85 | 152.25 | 166.45 | 167.05 | 168.55 | 168.85 | 170.25
46 | 87.95 | 155.30 | 170.05 | 170.55 | 172.05 | 172.35 | 173.85
47 | 88.95 | 158.50 | 173.55 | 174.15 | 175.60 | 175.90 | 177.40
48 | 91.05 | 161.70 | 177.00 | 177.60 | 179.20 | 179.50 | 181.00
49 | 93.15 | 164.75 | 180.50 | 181.10 | 182.80 | 183.00 | 184.55
50 | 94.25 | 167.95 | 184.10 | 184.65 | 186.25 | 186.55 | 188.15
51 | 96.30 | 171.15 | 187.55 | 188.15 | 189.75 | 190.05 | 191.75
52 | 97.40 | 174.20 | 191.05 | 191.75 | 193.35 | 193.65 | 195.40
53 | 99.50 | 177.40 | 194.50 | 195.10 | 196.90 | 197.10 | 198.90
54 | 101.60 | 180.60 | 198.00 | 198.70 | 200.50 | 200.70 | 202.50
55 | 102.60 | 184.75 | 201.60 | 202.20 | 204.00 | 204.25 | 206.05
56 | 104.65 | 187.95 | 205.05 | 205.75 | 207.55 | 207.75 | 209.65
57 | 105.75 | 191.15 | 208.55 | 209.25 | 211.05 | 211.35 | 213.25
58 | 107.75 | 194.20 | 212.05 | 212.75 | 214.60 | 214.80 | 216.80
59 | 108.95 | 197.30 | 215.50 | 216.30 | 218.20 | 218.40 | 220.40
60 | 110.95 | 200.50 | 219.00 | 219.80 | 221.70 | 222.00 | 223.95
61 | 113.05 | 203.70 | 222.60 | 223.40 | 225.25 | 225.55 | 227.55
62 | 114.15 | 206.75 | 226.05 | 226.75 | 228.75 | 229.05 | 231.15
63 | 116.20 | 209.95 | 229.55 | 230.35 | 232.35 | 232.55 | 234.80
64 | 117.20 | 213.05 | 233.05 | 233.85 | 235.90 | 236.10 | 238.40
65 | 119.30 | 216.20 | 236.50 | 237.30 | 239.40 | 239.70 | 241.90
66 | 121.50 | 219.40 | 240.10 | 240.90 | 243.00 | 243.30 | 245.45
67 | 122.50 | 222.50 | 243.60 | 244.35 | 246.45 | 246.75 | 249.05
68 | 124.55 | 225.65 | 247.05 | 247.95 | 250.05 | 250.35 | 252.75
69 | 125.55 | 228.85 | 250.55 | 251.45 | 253.55 | 253.80 | 256.20
70 | 127.75 | 232.05 | 254.10 | 254.90 | 257.10 | 257.30 | 259.80

Retail Flat-Rate Envelope

| ($)
Retail Flat-Rate Envelope, per piece | 17.50

Commercial Base [Zone/Weight]

[5] percent discount off the retail zone/weight prices

Commercial [Base] Flat-Rate Envelope

| ($)
Commercial [Base] Flat-Rate Envelope, per piece | 16.63

[Commercial Plus Zone/Weight

14.5 percent discount off the retail zone/weight prices]

[Commercial Plus Flat-Rate Envelope

| ($)
Commercial Plus Flat-Rate Envelope, per piece | 14.96]

Pickup On Demand

Add $14.75 for each Pickup On Demand stop.

Sunday/Holiday Delivery

Add $12.50 for requesting Sunday or holiday delivery.

2110 Priority Mail

2110.1 Description

a. Priority Mail service provides expeditious handling and transportation.

b. Any matter eligible for mailing may, at the option of the mailer, be mailed by Priority Mail service for expeditious handling and transportation.

b. Matter containing personal information, partially or wholly handwritten or typewritten matter, or bills or statements of account must be mailed as Priority Mail pieces if they exceed the weight limit set by the Postal Service for First-Class Mail, unless mailed by Express Mail service, exempt under title 39, United States Code, or are otherwise exempted by the Postal Service.

c. Priority Mail pieces are sealed against postal inspection and shall not be opened except as authorized by law.

d. Priority Mail pieces that are undeliverable-as-addressed are entitled to be forwarded or returned to the sender without additional charge.

2110.3 Minimum Volume Requirements

| Minimum volume requirements
Priority Mail | none.

2110.5 Optional Features

The following additional postal services may be available in conjunction with the product specified in this section:

• Pickup On Demand

• Ancillary Services (1505)

○ Address Correction Service (1505.1)

○ Business Reply Mail (1505.3)

○ Certificate of Mailing (1505.6)

○ Collect On Delivery (1505.7)

○ Delivery Confirmation (1505.8)

○ Insurance (1505.9)

○ Merchandise Return (1505.10)

○ Registered Mail (1505.12)

○ Return Receipt (1505.13)

○ Return Receipt for Merchandise (1505.14)

○ Restricted Delivery (1505.15)

○ Signature Confirmation (1505.17)

○ Special Handling (1505.18)

2110.6 Prices

Retail Priority Mail Zone/Weight

Maximum weight (pounds) | Local, zones 1 & 2 ($) | Zone 3 ($) | Zone 4 ($) | Zone 5 ($) | Zone 6 ($) | Zone 7 ($) | Zone 8 ($)
1 | 4.95 | 4.95 | 4.95 | 4.95 | 4.95 | 4.95 | 4.95
2 | 4.95 | 5.20 | 5.75 | 7.10 | 7.60 | 8.10 | 8.70
3 | 5.50 | 6.25 | 7.10 | 9.05 | 9.90 | 10.60 | 11.95
4 | 6.10 | 7.10 | 8.15 | 10.80 | 11.95 | 12.95 | 14.70
5 | 6.85 | 8.15 | 9.45 | 12.70 | 13.75 | 15.20 | 17.15
6 | 7.55 | 9.25 | 10.75 | 14.65 | 15.50 | 17.50 | 19.60
7 | 8.30 | 10.30 | 12.05 | 16.55 | 17.30 | 19.75 | 22.05
8 | 8.80 | 10.70 | 13.10 | 17.95 | 18.80 | 21.70 | 24.75
9 | 9.25 | 11.45 | 13.95 | 19.15 | 20.30 | 23.60 | 27.55
10 | 9.90 | 12.35 | 15.15 | 20.75 | 22.50 | 25.90 | 29.95
11 | 10.55 | 13.30 | 16.40 | 22.40 | 24.75 | 28.20 | 32.40
12 | 11.20 | 14.20 | 17.60 | 24.00 | 26.95 | 30.50 | 34.80
13 | 11.50 | 14.55 | 18.10 | 25.30 | 28.90 | 31.70 | 36.00
14 | 11.90 | 15.20 | 18.90 | 26.45 | 30.50 | 33.50 | 37.80
15 | 12.40 | 15.85 | 19.85 | 27.25 | 31.15 | 33.85 | 38.60
16 | 12.80 | 16.40 | 20.45 | 27.85 | 31.85 | 34.60 | 39.55
17 | 13.25 | 16.95 | 20.85 | 28.50 | 32.70 | 35.50 | 40.60
18 | 13.50 | 17.50 | 21.30 | 29.10 | 33.35 | 36.15 | 41.55
19 | 13.95 | 17.90 | 21.60 | 29.80 | 34.15 | 37.10 | 42.60
20 | 14.30 | 18.15 | 22.00 | 30.30 | 34.80 | 37.80 | 43.55
21 | 14.70 | 18.40 | 22.35 | 30.80 | 35.35 | 38.45 | 44.40
22 | 15.05 | 18.75 | 22.70 | 31.50 | 36.15 | 39.35 | 45.50
23 | 15.40 | 19.00 | 23.35 | 32.05 | 36.80 | 40.00 | 46.30
24 | 15.75 | 19.20 | 24.05 | 32.70 | 37.55 | 40.95 | 47.45
25 | 16.10 | 19.50 | 24.85 | 33.25 | 38.10 | 41.55 | 48.25
26 | 16.45 | 19.70 | 25.65 | 33.95 | 39.00 | 42.45 | 49.80
27 | 16.90 | 20.00 | 26.40 | 34.40 | 39.55 | 43.05 | 51.65
28 | 17.40 | 20.25 | 27.10 | 34.85 | 40.10 | 43.70 | 53.55
29 | 17.95 | 20.45 | 27.90 | 35.30 | 40.60 | 44.30 | 55.25
30 | 18.50 | 20.75 | 28.65 | 35.80 | 41.15 | 44.90 | 57.10
31 | 19.00 | 20.95 | 29.45 | 36.25 | 41.70 | 45.50 | 59.00
32 | 19.50 | 21.45 | 30.20 | 36.70 | 42.25 | 46.60 | 60.85
33 | 19.75 | 22.00 | 30.90 | 37.15 | 42.80 | 47.90 | 62.60
34 | 19.95 | 22.60 | 31.45 | 37.95 | 44.05 | 49.20 | 64.45
35 | 20.20 | 23.15 | 31.90 | 38.75 | 45.25 | 50.55 | 66.30
36 | 20.40 | 23.75 | 32.30 | 39.60 | 46.40 | 51.90 | 68.15
37 | 20.60 | 24.25 | 32.75 | 40.35 | 47.60 | 53.25 | 70.00
38 | 20.80 | 24.85 | 33.15 | 41.15 | 48.95 | 54.50 | 71.80
39 | 21.05 | 25.35 | 33.55 | 42.00 | 50.15 | 55.90 | 73.70
40 | 21.45 | 25.90 | 33.90 | 42.85 | 51.30 | 57.15 | 75.45
41 | 21.90 | 26.40 | 34.30 | 43.25 | 52.50 | 58.55 | 76.90
42 | 22.30 | 26.90 | 34.65 | 44.15 | 53.65 | 59.90 | 77.95
43 | 22.75 | 27.35 | 35.00 | 45.15 | 54.95 | 61.25 | 78.95
44 | 23.15 | 27.90 | 35.35 | 46.15 | 56.10 | 62.60 | 79.90
45 | 23.55 | 28.40 | 35.70 | 47.15 | 57.35 | 63.95 | 80.85
46 | 24.00 | 28.75 | 36.05 | 48.05 | 58.55 | 65.25 | 81.75
47 | 24.40 | 28.95 | 36.35 | 49.10 | 59.85 | 66.65 | 82.70
48 | 24.85 | 29.20 | 36.70 | 50.10 | 61.05 | 68.00 | 83.55
49 | 25.25 | 29.40 | 37.00 | 51.00 | 62.15 | 69.40 | 84.40
50 | 25.60 | 29.65 | 37.35 | 52.00 | 63.35 | 70.50 | 85.45
51 | 26.10 | 29.85 | 38.00 | 53.00 | 64.55 | 71.15 | 86.35
52 | 26.45 | 30.05 | 38.75 | 54.00 | 65.30 | 71.75 | 87.20
53 | 26.95 | 30.25 | 39.40 | 54.95 | 65.80 | 72.35 | 88.05
54 | 27.30 | 30.40 | 40.05 | 56.00 | 66.30 | 72.90 | 88.90
55 | 27.75 | 30.60 | 40.85 | 57.00 | 66.80 | 73.50 | 89.65
56 | 28.15 | 30.75 | 41.50 | 57.90 | 67.30 | 74.00 | 90.45
57 | 28.60 | 30.95 | 42.15 | 58.80 | 67.75 | 74.55 | 91.25
58 | 29.00 | 31.10 | 42.90 | 59.55 | 68.20 | 75.05 | 92.00
59 | 29.45 | 31.25 | 43.60 | 59.95 | 68.65 | 75.50 | 92.65
60 | 29.80 | 31.40 | 44.25 | 60.30 | 69.05 | 76.70 | 93.35
61 | 30.30 | 31.50 | 45.05 | 60.60 | 69.85 | 77.90 | 94.60
62 | 30.65 | 31.65 | 45.70 | 60.95 | 70.30 | 79.10 | 96.10
63 | 31.15 | 31.80 | 46.40 | 61.25 | 70.70 | 79.90 | 97.60
64 | 31.50 | 31.90 | 47.10 | 61.55 | 71.15 | 80.40 | 99.15
65 | 31.95 | 32.00 | 47.70 | 61.85 | 71.50 | 80.85 | 100.70
66 | 32.35 | 32.35 | 48.45 | 62.10 | 71.95 | 81.25 | 102.15
67 | 32.80 | 32.80 | 49.25 | 62.75 | 72.30 | 81.70 | 103.75
68 | 33.20 | 33.20 | 49.90 | 63.65 | 72.60 | 82.10 | 105.20
69 | 33.65 | 33.65 | 50.55 | 64.60 | 73.00 | 82.50 | 106.75
70 | 34.05 | 34.05 | 51.35 | 64.90 | 73.30 | 82.85 | 108.25

Retail Pickup On Demand

Add $14.75 for each Pickup On Demand stop.

Retail Flat-Rate Envelope

| ($)
Retail Flat-Rate Envelope, per piece | 4.95

Retail Balloon Rate

In Zones 1-4 (including local), parcels weighing less than 20 pounds but measuring more than 84 inches in combined length and girth (but not more than 108 inches) are charged the applicable price for a 20-pound parcel.

Retail Dimensional Weight

In Zones 5-8, parcels exceeding one cubic foot are priced at the actual weight or the dimensional weight, whichever is greater.

For box-shaped parcels, the dimensional weight (pounds) is calculated by multiplying the length (inches) times the width (inches) times the height (inches) of the parcel, and dividing by 194.

For irregular-shaped parcels (parcels not appearing box-shaped), the dimensional weight (pounds) is calculated by multiplying the length (inches) times the width (inches) times the height (inches) at the associated maximum cross-sections of the parcel, dividing by 194, and multiplying by an adjustment factor of 0.785.

Commercial [Base] Priority Mail Zone/Weight

Maximum weight (pounds) | Local, zones 1 & 2 ($) | Zone 3 ($) | Zone 4 ($) | Zone 5 ($) | Zone 6 ($) | Zone 7 ($) | Zone 8 ($)
1 | 4.80 | 4.80 | 4.80 | 4.80 | 4.80 | 4.80 | 4.80
2 | 4.80 | 4.99 | 5.37 | 6.67 | 7.18 | 7.69 | 8.30
3 | 5.08 | 5.81 | 6.64 | 8.15 | 9.35 | 10.07 | 11.41
4 | 5.64 | 6.60 | 7.62 | 9.78 | 11.29 | 12.29 | 14.03
5 | 6.33 | 7.58 | 8.55 | 11.56 | 12.98 | 14.43 | 16.37
6 | 6.98 | 8.60 | 9.84 | 13.34 | 14.64 | 16.62 | 18.71
7 | 7.68 | 9.58 | 11.14 | 15.23 | 16.34 | 18.76 | 21.04
8 | 8.14 | 9.95 | 12.24 | 16.70 | 17.76 | 20.61 | 23.63
9 | 8.37 | 10.64 | 13.04 | 18.00 | 19.18 | 22.41 | 26.30
10 | 9.05 | 11.49 | 14.16 | 19.50 | 21.26 | 24.59 | 28.59
11 | 9.76 | 12.37 | 15.33 | 21.05 | 23.38 | 26.78 | 30.93
12 | 10.36 | 13.20 | 16.45 | 22.56 | 25.45 | 28.96 | 33.22
13 | 10.64 | 13.53 | 16.92 | 23.78 | 27.30 | 30.11 | 34.36
14 | 11.01 | 14.14 | 17.67 | 24.86 | 28.82 | 31.81 | 36.08
15 | 11.47 | 14.74 | 18.55 | 25.61 | 29.43 | 32.14 | 36.85
16 | 11.84 | 15.26 | 19.12 | 26.17 | 30.08 | 32.86 | 37.76
17 | 12.25 | 15.77 | 19.49 | 26.78 | 30.89 | 33.72 | 38.75
18 | 12.49 | 16.27 | 19.91 | 27.35 | 31.51 | 34.33 | 39.66
19 | 12.90 | 16.65 | 20.20 | 28.01 | 32.26 | 35.23 | 40.66
20 | 13.23 | 16.87 | 20.57 | 28.47 | 32.88 | 35.90 | 41.58
21 | 13.60 | 17.11 | 20.89 | 28.94 | 33.40 | 36.51 | 42.38
22 | 13.92 | 17.43 | 21.22 | 29.60 | 34.14 | 37.37 | 43.44
23 | 14.24 | 17.67 | 21.82 | 30.12 | 34.76 | 37.99 | 44.20
24 | 14.57 | 17.86 | 22.48 | 30.73 | 35.47 | 38.89 | 45.30
25 | 14.89 | 18.13 | 23.23 | 31.25 | 35.99 | 39.45 | 46.06
26 | 15.21 | 18.32 | 23.97 | 31.91 | 36.84 | 40.31 | 47.53
27 | 15.63 | 18.60 | 24.68 | 32.33 | 37.36 | 40.88 | 49.31
28 | 16.10 | 18.82 | 25.33 | 32.76 | 37.88 | 41.50 | 51.12
29 | 16.61 | 19.01 | 26.09 | 33.18 | 38.35 | 42.07 | 52.74
30 | 17.11 | 19.30 | 26.78 | 33.64 | 38.87 | 42.64 | 54.50
31 | 17.58 | 19.48 | 27.53 | 34.07 | 39.39 | 43.21 | 56.31
32 | 18.04 | 19.94 | 28.24 | 34.49 | 39.92 | 44.25 | 58.09
33 | 18.27 | 20.46 | 28.88 | 34.92 | 40.44 | 45.48 | 59.75
34 | 18.45 | 21.01 | 29.39 | 35.66 | 41.62 | 46.72 | 61.52
35 | 18.68 | 21.52 | 29.81 | 36.42 | 42.75 | 48.00 | 63.29
36 | 18.87 | 22.08 | 30.19 | 37.22 | 43.83 | 49.28 | 65.06
37 | 19.05 | 22.54 | 30.62 | 37.92 | 44.97 | 50.57 | 66.82
38 | 19.24 | 23.10 | 30.99 | 38.67 | 46.25 | 51.75 | 68.53
39 | 19.47 | 23.58 | 31.36 | 39.47 | 47.38 | 53.09 | 70.36
40 | 19.84 | 24.08 | 31.69 | 40.27 | 48.46 | 54.27 | 72.02
41 | 20.25 | 24.54 | 32.06 | 40.64 | 49.60 | 55.60 | 73.41
42 | 20.63 | 25.02 | 32.39 | 41.49 | 50.68 | 56.89 | 74.41
43 | 21.04 | 25.43 | 32.72 | 42.43 | 51.91 | 58.16 | 75.37
44 | 21.41 | 25.95 | 33.05 | 43.37 | 52.99 | 59.44 | 76.27
45 | 21.78 | 26.41 | 33.38 | 44.31 | 54.18 | 60.73 | 77.17
46 | 22.19 | 26.73 | 33.70 | 45.15 | 55.31 | 61.96 | 78.04
47 | 22.57 | 26.91 | 33.98 | 46.15 | 56.54 | 63.29 | 78.94
48 | 22.98 | 27.15 | 34.31 | 47.08 | 57.67 | 64.57 | 79.76
49 | 23.36 | 27.34 | 34.59 | 47.92 | 58.71 | 65.91 | 80.56
50 | 23.67 | 27.57 | 34.91 | 48.87 | 59.85 | 66.95 | 81.57
51 | 24.14 | 27.76 | 35.52 | 49.81 | 60.98 | 67.56 | 82.43
52 | 24.46 | 27.94 | 36.22 | 50.74 | 61.69 | 68.14 | 83.24
53 | 24.92 | 28.13 | 36.83 | 51.64 | 62.16 | 68.71 | 84.06
54 | 25.25 | 28.26 | 37.44 | 52.63 | 62.63 | 69.23 | 84.86
55 | 25.67 | 28.46 | 38.19 | 53.56 | 63.10 | 69.80 | 85.58
56 | 26.04 | 28.60 | 38.80 | 54.41 | 63.57 | 70.27 | 86.34
57 | 26.45 | 28.78 | 39.40 | 55.25 | 64.01 | 70.80 | 87.11
58 | 26.83 | 28.92 | 40.10 | 55.96 | 64.43 | 71.27 | 87.82
59 | 27.24 | 29.06 | 40.76 | 56.34 | 64.86 | 71.69 | 88.44
60 | 27.56 | 29.20 | 41.36 | 56.67 | 65.23 | 72.84 | 89.11
61 | 28.02 | 29.29 | 42.11 | 56.95 | 65.99 | 73.97 | 90.31
62 | 28.35 | 29.43 | 42.72 | 57.28 | 66.41 | 75.12 | 91.74
63 | 28.81 | 29.57 | 43.38 | 57.56 | 66.79 | 75.88 | 93.17
64 | 29.13 | 29.66 | 44.03 | 57.84 | 67.21 | 76.35 | 94.64
65 | 29.55 | 29.75 | 44.59 | 58.12 | 67.55 | 76.78 | 96.12
66 | 29.92 | 30.08 | 45.29 | 58.36 | 67.97 | 77.15 | 97.51
67 | 30.34 | 30.50 | 46.04 | 58.97 | 68.30 | 77.59 | 99.04
68 | 30.71 | 30.87 | 46.65 | 59.81 | 68.59 | 77.96 | 100.42
69 | 31.13 | 31.29 | 47.25 | 60.71 | 68.96 | 78.35 | 101.90
70 | 31.49 | 31.66 | 48.00 | 60.99 | 69.25 | 78.67 | 103.33

Commercial Pickup On Demand

Add $14.75 for each Pickup On Demand stop.

Commercial [Base] Flat-Rate Envelope

| ($)
Commercial [Base] Flat-Rate Envelope, per piece | 4.80

Commercial [Base] Balloon Rate

In Zones 1-4 (including local), parcels weighing less than 20 pounds but measuring more than 84 inches in combined length and girth (but not more than 108 inches) are charged the applicable price for a 20-pound parcel.

Commercial [Base] Dimensional Weight

In Zones 5-8, parcels exceeding one cubic foot are priced at the actual weight or the dimensional weight, whichever is greater.

For box-shaped parcels, the dimensional weight (pounds) is calculated by multiplying the length (inches) times the width (inches) times the height (inches) of the parcel, and dividing by 194.

For irregular-shaped parcels (parcels not appearing box-shaped), the dimensional weight (pounds) is calculated by multiplying the length (inches) times the width (inches) times the height (inches) at the associated maximum cross-sections of the parcel, dividing by 194, and multiplying by an adjustment factor of 0.785.

[Commercial [Plus] Priority Mail Zone/Weight]

Maximum weight (pounds) | Local, zones 1 & 2 ($) | Zone 3 ($) | Zone 4 ($) | Zone 5 ($) | Zone 6 ($) | Zone 7 ($) | Zone 8 ($)
1 | 4.75 | 4.75 | 4.75 | 4.75 | 4.75 | 4.75 | 4.75
2 | 4.75 | 4.75 | 5.29 | 6.46 | 6.88 | 7.39 | 7.96
3 | 4.86 | 5.59 | 6.38 | 7.79 | 9.12 | 9.94 | 11.10
4 | 5.42 | 6.39 | 7.42 | 9.50 | 11.08 | 12.14 | 13.75
5 | 6.03 | 7.29 | 8.14 | 11.11 | 12.84 | 14.16 | 16.21
6 | 6.86 | 8.45 | 9.67 | 13.11 | 14.39 | 16.34 | 18.05
7 | 7.54 | 9.37 | 10.90 | 14.97 | 16.00 | 18.37 | 20.61
8 | 7.98 | 9.72 | 11.97 | 16.35 | 17.36 | 20.15 | 23.12
9 | 8.19 | 10.41 | 12.77 | 17.63 | 18.78 | 21.93 | 25.73
10 | 8.67 | 11.21 | 13.47 | 18.78 | 20.35 | 23.86 | 28.10
11 | 9.09 | 11.49 | 14.25 | 19.51 | 21.60 | 25.16 | 29.11
12 | 9.48 | 12.07 | 15.04 | 20.60 | 23.29 | 26.46 | 30.36
13 | 9.72 | 12.37 | 15.48 | 21.74 | 24.98 | 27.51 | 31.41
14 | 10.07 | 12.91 | 16.17 | 22.72 | 26.32 | 29.10 | 32.97
15 | 10.50 | 13.49 | 16.95 | 23.42 | 26.92 | 29.40 | 33.68
16 | 10.85 | 13.94 | 17.49 | 23.91 | 27.51 | 30.06 | 34.53
17 | 11.18 | 14.42 | 17.84 | 24.50 | 28.26 | 30.80 | 35.42
18 | 11.43 | 14.86 | 18.18 | 25.00 | 28.81 | 31.40 | 36.28
19 | 11.81 | 15.20 | 18.48 | 25.59 | 29.49 | 32.20 | 37.18
20 | 12.11 | 15.44 | 18.82 | 26.03 | 30.05 | 32.80 | 37.99
21 | 12.45 | 15.64 | 19.12 | 26.48 | 30.54 | 33.39 | 38.74
22 | 12.74 | 15.93 | 19.41 | 27.07 | 31.23 | 34.14 | 39.70
23 | 13.03 | 16.13 | 19.95 | 27.52 | 31.78 | 34.75 | 40.39
24 | 13.32 | 16.33 | 20.54 | 28.11 | 32.43 | 35.55 | 41.40
25 | 13.61 | 16.57 | 21.23 | 28.56 | 32.93 | 36.09 | 42.10
26 | 13.90 | 16.76 | 21.91 | 29.15 | 33.66 | 36.84 | 43.45
27 | 14.29 | 17.01 | 22.56 | 29.55 | 34.16 | 37.39 | 45.06
28 | 14.74 | 17.20 | 23.14 | 29.94 | 34.61 | 37.94 | 46.72
29 | 15.17 | 17.40 | 23.84 | 30.34 | 35.06 | 38.44 | 48.22
30 | 15.65 | 17.65 | 24.47 | 30.77 | 35.56 | 38.99 | 49.83
31 | 16.05 | 17.79 | 25.16 | 31.13 | 36.00 | 39.49 | 51.48
32 | 16.48 | 18.23 | 25.80 | 31.52 | 36.50 | 40.44 | 53.09
33 | 16.92 | 18.72 | 26.38 | 31.92 | 36.95 | 41.58 | 54.64
34 | 17.36 | 19.21 | 27.07 | 32.60 | 38.04 | 42.73 | 56.25
35 | 17.79 | 19.70 | 27.61 | 33.30 | 39.08 | 43.88 | 57.86
36 | 18.23 | 20.19 | 28.06 | 34.04 | 40.07 | 45.07 | 59.47
37 | 18.67 | 20.62 | 28.51 | 34.68 | 41.12 | 46.23 | 61.07
38 | 18.91 | 21.11 | 28.94 | 35.37 | 42.27 | 47.32 | 62.67
39 | 19.14 | 21.56 | 29.34 | 36.07 | 43.31 | 48.53 | 64.33
40 | 19.50 | 22.00 | 29.78 | 36.81 | 44.29 | 49.62 | 65.83
41 | 19.91 | 22.43 | 30.17 | 37.15 | 45.34 | 50.81 | 67.44
42 | 20.28 | 22.88 | 30.57 | 37.94 | 46.33 | 52.02 | 69.05
43 | 20.68 | 23.26 | 30.96 | 38.78 | 47.48 | 53.16 | 70.66
44 | 21.05 | 23.71 | 31.36 | 39.67 | 48.46 | 54.36 | 72.26
45 | 21.41 | 24.15 | 31.70 | 40.51 | 49.51 | 55.52 | 73.86
46 | 21.81 | 24.59 | 32.33 | 41.30 | 50.55 | 56.66 | 75.47
47 | 22.19 | 25.02 | 32.93 | 42.19 | 51.70 | 57.86 | 77.02
48 | 22.59 | 25.37 | 33.66 | 43.02 | 52.74 | 59.05 | 78.40
49 | 22.96 | 25.67 | 34.00 | 43.82 | 53.68 | 60.26 | 79.19
50 | 23.27 | 25.91 | 34.32 | 44.66 | 54.72 | 61.40 | 80.18
51 | 23.73 | 26.16 | 34.92 | 45.55 | 55.76 | 62.55 | 81.03
52 | 24.04 | 26.40 | 35.60 | 46.38 | 56.91 | 63.70 | 81.82
53 | 24.50 | 26.64 | 36.20 | 47.23 | 57.91 | 64.90 | 82.63
54 | 24.82 | 26.83 | 36.80 | 48.12 | 58.90 | 66.00 | 83.42
55 | 25.23 | 27.08 | 37.54 | 48.95 | 59.94 | 67.09 | 84.13
56 | 25.60 | 27.28 | 38.14 | 49.74 | 61.08 | 68.29 | 84.87
57 | 26.00 | 27.52 | 38.73 | 50.53 | 62.08 | 69.49 | 85.63
58 | 26.37 | 27.72 | 39.42 | 51.43 | 63.12 | 70.06 | 86.33
59 | 26.78 | 27.91 | 40.07 | 52.27 | 63.76 | 70.47 | 86.94
60 | 27.09 | 28.11 | 40.66 | 53.15 | 64.12 | 71.60 | 87.60
61 | 27.54 | 28.30 | 41.39 | 53.94 | 64.87 | 72.71 | 88.77
62 | 27.87 | 28.55 | 41.99 | 54.84 | 65.28 | 73.84 | 90.18
63 | 28.32 | 28.98 | 42.64 | 55.72 | 65.65 | 74.59 | 91.59
64 | 28.63 | 29.16 | 43.28 | 56.57 | 66.07 | 75.05 | 93.03
65 | 29.05 | 29.24 | 43.83 | 57.13 | 66.40 | 75.47 | 94.49
66 | 29.41 | 29.57 | 44.52 | 57.37 | 66.81 | 75.84 | 95.85
67 | 29.82 | 29.98 | 45.26 | 57.97 | 67.14 | 76.27 | 97.36
68 | 30.19 | 30.35 | 45.86 | 58.79 | 67.42 | 76.63 | 98.71
69 | 30.60 | 30.76 | 46.45 | 59.68 | 67.79 | 77.02 | 100.17
70 | 30.95 | 31.12 | 47.18 | 59.95 | 68.07 | 77.33 | 101.57

[Commercial Pickup On Demand]

[Add $14.75 for each Pickup On Demand stop.]

[Commercial Plus Flat-Rate Envelope

| ($)
Commercial Plus Flat-Rate Envelope, per piece | 4.75]

[Commercial [Plus] Balloon Rate

In Zones 1-4 (including local), parcels weighing less than 20 pounds but measuring more than 84 inches in combined length and girth (but not more than 108 inches) are charged the applicable price for a 20-pound parcel.]

[Commercial [Plus] Dimensional Weight

In Zones 5-8, parcels exceeding one cubic foot are priced at the actual weight or the dimensional weight, whichever is greater.

For box-shaped parcels, the dimensional weight (pounds) is calculated by multiplying the length (inches) times the width (inches) times the height (inches) of the parcel, and dividing by 194.

For irregular-shaped parcels (parcels not appearing box-shaped), the dimensional weight (pounds) is calculated by multiplying the length (inches) times the width (inches) times the height (inches) at the associated maximum cross-sections of the parcel, dividing by 194, and multiplying by an adjustment factor of 0.785.]

2115 Parcel Select

2115.1 Description

a. Any mailable matter may be mailed as Parcel Select mail, except matter required to be mailed by First-Class Mail services or Priority Mail; and publications required to be entered as Periodicals mail.

b. Parcel Select mail is not sealed against postal inspection. Mailing of matter as such constitutes consent by the mailer to postal inspection of the contents, regardless of the physical closure.

c. Undeliverable-as-addressed Parcel Select pieces will be forwarded on request of the addressee or forwarded or returned on request of the mailer, subject to the applicable Single-Piece Parcel Post price when forwarded or returned from one Post Office location to another. Pieces which combine Parcel Select matter with First-Class Mail or Standard Mail matter will be forwarded or returned if undeliverable-as-addressed, as specified in the Domestic Mail Manual.

d. An annual mailing permit fee is required for destination entered parcels to be paid at each office of mailing or office of verification by or for mailers of Parcel Select (1505.2). Payment of the fee allows the mailer to mail at any Parcel Select price.

e. Attachments and Enclosures. First-Class Mail or Standard Mail pieces may be attached to or enclosed in Parcel Select mail.

2115.2 Size and Weight Limitations

| Length | Height | Thickness | Weight
Minimum | Large enough to accommodate postage, address, and other required elements on the address side. |  |  | none.
Maximum | 130 inches in combined length and girth. |  |  | 70 pounds.

2115.3 Minimum Volume Requirements

| Minimum volume requirements
Parcel Select | 50 pieces per mailing.

2115.4 Price Categories

• DDU—Entered at a designated destination delivery unit, or other equivalent facility.

○ Balloon Rate

○ Oversized

○ Loyalty Incentives—Rebates are available on qualified DDU volume to shippers who pay certain minimum levels of total Parcel Select postage and who exceed their previous year's total Parcel Select volume.

○ Growth Incentives—Rebates are available on qualified incremental DDU volume to shippers who qualify for loyalty incentives, and who maintain certain levels of Parcel Select volume growth rates.

• DSCF—Entered at a designated destination processing and distribution center or facility, or other equivalent facility.

○ Machinable

○ Nonmachinable

○ Balloon Rate

○ Oversized

• DBMC—Entered at a designated destination bulk mail center, auxiliary service facility, or other equivalent facility.

○ Machinable

○ Nonmachinable

○ Balloon Rate

○ Oversized

• OBMC Presort—Entered at the origin bulk mail center.

○ Machinable (Barcoded)

○ Nonmachinable

○ Balloon Rate

○ Oversized

• BMC Presort—Entered at a designated facility.

○ Machinable (Barcoded)

○ Nonmachinable

○ Balloon Rate

○ Oversized

• Barcoded—Entered at a designated facility.

○ Inter-BMC

○ Intra-BMC

○ Balloon Rate

2115.5 Optional Features

The following additional postal services may be available in conjunction with the product specified in this section:

• Pickup On Demand

• Ancillary Services (1505)

○ Address Correction Service (1505.1)

○ Certificate of Mailing (1505.6)

○ Collect On Delivery (1505.7)

○ Delivery Confirmation (1505.8)

○ Insurance (1505.9)

○ Return Receipt (1505.13)

○ Return Receipt for Merchandise (1505.14)

○ Restricted Delivery (1505.15)

○ Signature Confirmation (1505.17)

○ Special Handling (1505.18)

2115.6 Prices

DDU Entered

a. Machinable and Nonmachinable DDU

Maximum weight (pounds) | DDU ($)
1 | 1.54
2 | 1.61
3 | 1.68
4 | 1.73
5 | 1.79
6 | 1.84
7 | 1.90
8 | 1.94
9 | 1.99
10 | 2.03
11 | 2.12
12 | 2.20
13 | 2.27
14 | 2.35
15 | 2.42
16 | 2.48
17 | 2.55
18 | 2.61
19 | 2.67
20 | 2.74
21 | 2.79
22 | 2.84
23 | 2.89
24 | 2.94
25 | 3.00
26 | 3.04
27 | 3.08
28 | 3.13
29 | 3.18
30 | 3.22
31 | 3.25
32 | 3.29
33 | 3.33
34 | 3.36
35 | 3.41
36 | 3.44
37 | 3.47
38 | 3.50
39 | 3.53
40 | 3.56
41 | 3.59
42 | 3.63
43 | 3.66
44 | 3.68
45 | 3.71
46 | 3.73
47 | 3.76
48 | 3.78
49 | 3.80
50 | 3.84
51 | 3.86
52 | 3.88
53 | 3.90
54 | 3.92
55 | 3.94
56 | 3.96
57 | 3.98
58 | 3.99
59 | 4.01
60 | 4.03
61 | 4.06
62 | 4.07
63 | 4.09
64 | 4.10
65 | 4.12
66 | 4.13
67 | 4.15
68 | 4.16
69 | 4.18
70 | 4.19
Oversized | 7.33

b. Balloon Rate

Pieces exceeding 84 inches in length and girth combined (but not more than 108 inches) and weighing less than 20 pounds are subject to a price equal to that for a 20-pound parcel for the zone to which the parcel is addressed.

c. Oversized Price

Regardless of weight, any piece that measures more than 108 inches (but not more than 130 inches) in combined length plus girth must pay the oversized price.

DSCF and DBMC Entered

a. Machinable DSCF and DBMC

Maximum weight (pounds) | DSCF ($) | DBMC zones 1 & 2 ($) | DBMC zone 3 ($) | DBMC zone 4 ($) | DBMC zone 5 ($)
1 | 2.16 | 2.74 | 3.23 | 3.65 | 4.68
2 | 2.40 | 3.08 | 3.95 | 4.75 | 5.56
3 | 2.62 | 3.42 | 4.69 | 5.81 | 6.48
4 | 2.81 | 3.73 | 5.35 | 6.66 | 7.26
5 | 2.99 | 4.01 | 5.98 | 7.29 | 8.02
6 | 3.17 | 4.30 | 6.56 | 7.80 | 8.69
7 | 3.34 | 4.56 | 7.12 | 8.30 | 9.36
8 | 3.52 | 4.83 | 7.65 | 8.74 | 9.96
9 | 3.66 | 5.05 | 8.10 | 9.15 | 10.45
10 | 3.79 | 5.28 | 8.58 | 10.14 | 10.95
11 | 4.02 | 5.62 | 9.26 | 10.69 | 11.58
12 | 4.22 | 5.95 | 9.86 | 11.08 | 12.02
13 | 4.43 | 6.25 | 10.40 | 11.45 | 12.44
14 | 4.62 | 6.57 | 10.90 | 11.84 | 12.82
15 | 4.83 | 6.84 | 11.35 | 12.17 | 13.17
16 | 5.03 | 7.14 | 11.68 | 12.48 | 13.53
17 | 5.22 | 7.42 | 11.98 | 12.82 | 13.84
18 | 5.39 | 7.66 | 12.26 | 13.10 | 14.14
19 | 5.57 | 7.93 | 12.56 | 13.38 | 14.43
20 | 5.74 | 8.17 | 12.85 | 13.63 | 14.68
21 | 5.89 | 8.42 | 13.11 | 13.88 | 14.94
22 | 6.06 | 8.66 | 13.37 | 14.15 | 15.17
23 | 6.24 | 8.91 | 13.65 | 14.42 | 15.42
24 | 6.40 | 9.14 | 13.90 | 14.68 | 15.63
25 | 6.53 | 9.35 | 14.14 | 14.92 | 15.86
26 | 6.65 | 9.54 | 14.37 | 15.18 | 16.03
27 | 6.83 | 9.78 | 14.63 | 15.42 | 16.22
28 | 6.96 | 9.96 | 14.87 | 15.64 | 16.43
29 | 7.10 | 10.17 | 15.10 | 15.88 | 16.68
30 | 7.21 | 10.35 | 15.31 | 16.09 | 16.90
31 | 7.35 | 10.55 | 15.50 | 16.31 | 17.14
32 | 7.47 | 10.72 | 15.73 | 16.53 | 17.34
33 | 7.59 | 10.91 | 15.92 | 16.72 | 17.56
34 | 7.73 | 11.10 | 16.05 | 16.93 | 17.77
35 | 7.83 | 11.23 | 16.24 | 17.13 | 17.97
For DSCF and DBMC pieces over 35 pounds, use Nonmachinable prices.

b. Balloon Rate

Pieces exceeding 84 inches in length and girth combined (but not more than 108 inches) and weighing less than 20 pounds are subject to a price equal to that for a 20-pound parcel for the zone to which the parcel is addressed.

b. Nonmachinable DSCF and DBMC

Maximum weight (pounds) | DSCF 5-digit ($) | DSCF 3-digit ($) | DBMC zones 1 & 2 ($) | DBMC zone 3 ($) | DBMC zone 4 ($) | DBMC zone 5 ($)
1 | 2.16 | 2.98 | 4.95 | 5.44 | 5.86 | 6.89
2 | 2.40 | 3.22 | 5.29 | 6.16 | 6.96 | 7.77
3 | 2.62 | 3.44 | 5.63 | 6.90 | 8.02 | 8.69
4 | 2.81 | 3.63 | 5.94 | 7.56 | 8.87 | 9.47
5 | 2.99 | 3.81 | 6.22 | 8.19 | 9.50 | 10.23
6 | 3.17 | 3.99 | 6.51 | 8.77 | 10.01 | 10.90
7 | 3.34 | 4.16 | 6.77 | 9.33 | 10.51 | 11.57
8 | 3.52 | 4.34 | 7.04 | 9.86 | 10.95 | 12.17
9 | 3.66 | 4.48 | 7.26 | 10.31 | 11.36 | 12.66
10 | 3.79 | 4.61 | 7.49 | 10.79 | 12.35 | 13.16
11 | 4.02 | 4.84 | 7.83 | 11.47 | 12.90 | 13.79
12 | 4.22 | 5.04 | 8.16 | 12.07 | 13.29 | 14.23
13 | 4.43 | 5.25 | 8.46 | 12.61 | 13.66 | 14.65
14 | 4.62 | 5.44 | 8.78 | 13.11 | 14.05 | 15.03
15 | 4.83 | 5.65 | 9.05 | 13.56 | 14.38 | 15.38
16 | 5.03 | 5.85 | 9.35 | 13.89 | 14.69 | 15.74
17 | 5.22 | 6.04 | 9.63 | 14.19 | 15.03 | 16.05
18 | 5.39 | 6.21 | 9.87 | 14.47 | 15.31 | 16.35
19 | 5.57 | 6.39 | 10.14 | 14.77 | 15.59 | 16.64
20 | 5.74 | 6.56 | 10.38 | 15.06 | 15.84 | 16.89
21 | 5.89 | 6.71 | 10.63 | 15.32 | 16.09 | 17.15
22 | 6.06 | 6.88 | 10.87 | 15.58 | 16.36 | 17.38
23 | 6.24 | 7.06 | 11.12 | 15.86 | 16.63 | 17.63
24 | 6.40 | 7.22 | 11.35 | 16.11 | 16.89 | 17.84
25 | 6.53 | 7.35 | 11.56 | 16.35 | 17.13 | 18.07
26 | 6.65 | 7.47 | 11.75 | 16.58 | 17.39 | 18.24
27 | 6.83 | 7.65 | 11.99 | 16.84 | 17.63 | 18.43
28 | 6.96 | 7.78 | 12.17 | 17.08 | 17.85 | 18.64
29 | 7.10 | 7.92 | 12.38 | 17.31 | 18.09 | 18.89
30 | 7.21 | 8.03 | 12.56 | 17.52 | 18.30 | 19.11
31 | 7.35 | 8.17 | 12.76 | 17.71 | 18.52 | 19.35
32 | 7.47 | 8.29 | 12.93 | 17.94 | 18.74 | 19.55
33 | 7.59 | 8.41 | 13.12 | 18.13 | 18.93 | 19.77
34 | 7.73 | 8.55 | 13.31 | 18.26 | 19.14 | 19.98
35 | 7.83 | 8.65 | 13.44 | 18.45 | 19.34 | 20.18
36 | 7.94 | 8.76 | 13.63 | 18.58 | 19.52 | 20.38
37 | 8.05 | 8.87 | 13.81 | 18.72 | 19.71 | 20.57
38 | 8.15 | 8.97 | 13.97 | 18.88 | 19.89 | 20.77
39 | 8.27 | 9.09 | 14.13 | 19.03 | 20.06 | 20.95
40 | 8.33 | 9.15 | 14.24 | 19.15 | 20.25 | 21.13
41 | 8.42 | 9.24 | 14.40 | 19.34 | 20.36 | 21.31
42 | 8.54 | 9.36 | 14.55 | 19.46 | 20.49 | 21.48
43 | 8.62 | 9.44 | 14.69 | 19.59 | 20.57 | 21.66
44 | 8.71 | 9.53 | 14.82 | 19.72 | 20.67 | 21.81
45 | 8.79 | 9.61 | 14.96 | 19.83 | 20.94 | 21.97
46 | 8.89 | 9.71 | 15.08 | 19.98 | 21.02 | 22.25
47 | 8.97 | 9.79 | 15.21 | 20.09 | 21.11 | 22.73
48 | 9.03 | 9.85 | 15.32 | 20.23 | 21.18 | 23.23
49 | 9.11 | 9.93 | 15.44 | 20.35 | 21.26 | 23.71
50 | 9.18 | 10.00 | 15.57 | 20.46 | 21.32 | 24.21
51 | 9.29 | 10.11 | 15.71 | 20.55 | 21.41 | 24.72
52 | 9.33 | 10.15 | 15.82 | 20.72 | 21.48 | 25.27
53 | 9.38 | 10.20 | 15.93 | 20.80 | 21.52 | 25.81
54 | 9.47 | 10.29 | 16.07 | 20.87 | 21.60 | 26.36
55 | 9.59 | 10.41 | 16.20 | 20.94 | 21.68 | 26.60
56 | 9.64 | 10.46 | 16.31 | 21.01 | 21.77 | 26.70
57 | 9.73 | 10.55 | 16.44 | 21.03 | 21.80 | 26.86
58 | 9.80 | 10.62 | 16.57 | 21.11 | 21.85 | 26.97
59 | 9.90 | 10.72 | 16.70 | 21.15 | 21.92 | 27.10
60 | 9.97 | 10.79 | 16.83 | 21.18 | 21.95 | 27.23
61 | 10.01 | 10.83 | 16.91 | 21.26 | 22.03 | 27.34
62 | 10.08 | 10.90 | 17.03 | 21.30 | 22.12 | 27.45
63 | 10.16 | 10.98 | 17.15 | 21.34 | 22.23 | 27.55
64 | 10.24 | 11.06 | 17.27 | 21.37 | 22.33 | 27.67
65 | 10.30 | 11.12 | 17.39 | 21.43 | 22.43 | 27.76
66 | 10.34 | 11.16 | 17.44 | 21.47 | 22.54 | 27.89
67 | 10.42 | 11.24 | 17.55 | 21.50 | 22.66 | 27.98
68 | 10.46 | 11.28 | 17.65 | 21.53 | 22.72 | 28.08
69 | 10.55 | 11.37 | 17.77 | 21.57 | 22.83 | 28.18
70 | 10.60 | 11.42 | 17.87 | 21.62 | 22.94 | 28.28
Oversized | 16.04 | 16.04 | 25.23 | 35.62 | 48.25 | 50.15

c. Balloon Rate

Pieces exceeding 84 inches in length and girth combined (but not more than 108 inches) and weighing less than 20 pounds are subject to a price equal to that for a 20-pound parcel for the zone to which the parcel is addressed.

d. Oversized Price

Regardless of weight, any piece that measures more than 108 inches (but not more than 130 inches) in combined length plus girth must pay the oversized price.

e. Loyalty Incentives

Annual total Parcel Select postage | $5M | $25M | $50M | $100M | $300M | $500M
Rebate on qualified DDU volume | 0.25% | 0.50% | 0.75% | 1.00% | 1.25% | 1.50%

f. Growth Incentives

Total Parcel Select postage to qualify | $5M | $25M | $50M | $100M | $300M | $500M
Total Parcel Select annual growth rate | Rebate on qualified incremental DDU volume.
>10% | 2% | 4% | 6% | 8% | 10% | 10%
>20% | 4% | 6% | 8% | 10% | 12% | 12%
>30% | 6% | 8% | 10% | 12% | 14% | 14%

OBMC Presort Entered

a. Machinable OBMC Presort (Barcoded)

Maximum weight (pounds) | Zones 1 & 2 ($) | Zone 3 ($) | Zone 4 ($) | Zone 5 ($) | Zone 6 ($) | Zone 7 ($) | Zone 8 ($)
1 | 3.10 | 3.10 | 3.10 | 3.10 | 3.10 | 3.10 | 3.10
2 | 3.10 | 3.40 | 3.90 | 4.49 | 4.68 | 4.90 | 5.22
3 | 3.60 | 4.25 | 5.15 | 5.49 | 5.77 | 6.07 | 6.67
4 | 4.30 | 5.30 | 6.10 | 6.43 | 6.78 | 7.17 | 7.93
5 | 4.95 | 6.25 | 6.92 | 7.31 | 7.74 | 8.22 | 9.13
6 | 5.55 | 7.15 | 7.70 | 8.16 | 8.66 | 9.21 | 10.27
7 | 6.10 | 7.89 | 8.44 | 8.97 | 9.53 | 10.15 | 11.36
8 | 6.55 | 8.25 | 9.16 | 9.74 | 10.37 | 11.06 | 12.40
9 | 6.95 | 8.61 | 9.85 | 10.49 | 11.18 | 11.94 | 13.41
10 | 7.35 | 9.75 | 10.51 | 11.21 | 11.95 | 12.78 | 14.38
11 | 7.70 | 10.15 | 11.15 | 11.90 | 12.71 | 13.59 | 15.31
12 | 8.05 | 10.45 | 11.77 | 12.57 | 13.43 | 14.38 | 16.22
13 | 8.45 | 10.72 | 12.37 | 13.22 | 14.14 | 15.14 | 17.10
14 | 8.66 | 11.06 | 12.96 | 13.85 | 14.82 | 15.88 | 17.95
15 | 8.84 | 11.34 | 13.52 | 14.47 | 15.48 | 16.60 | 18.77
16 | 8.99 | 11.61 | 14.07 | 15.06 | 16.13 | 17.30 | 19.58
17 | 9.18 | 11.84 | 14.61 | 15.64 | 16.76 | 17.98 | 20.36
18 | 9.32 | 12.09 | 15.13 | 16.21 | 17.37 | 18.65 | 21.12
19 | 9.51 | 12.34 | 15.64 | 16.76 | 17.97 | 19.29 | 21.87
20 | 9.64 | 12.57 | 16.14 | 17.30 | 18.55 | 19.92 | 22.59
21 | 9.80 | 12.81 | 16.63 | 17.82 | 19.12 | 20.54 | 23.30
22 | 9.93 | 12.99 | 17.02 | 18.34 | 19.67 | 21.14 | 23.99
23 | 10.08 | 13.25 | 17.35 | 18.84 | 20.22 | 21.73 | 24.67
24 | 10.19 | 13.44 | 17.62 | 19.33 | 20.75 | 22.31 | 25.33
25 | 10.34 | 13.63 | 17.92 | 19.81 | 21.27 | 22.87 | 25.98
26 | 10.45 | 13.82 | 18.19 | 20.28 | 21.78 | 23.42 | 26.62
27 | 10.62 | 14.01 | 18.44 | 20.74 | 22.28 | 23.96 | 27.24
28 | 10.71 | 14.20 | 18.73 | 21.19 | 22.77 | 24.49 | 27.85
29 | 10.85 | 14.39 | 18.99 | 21.64 | 23.25 | 25.01 | 28.45
30 | 10.96 | 14.54 | 19.22 | 22.07 | 23.72 | 25.52 | 29.03
31 | 11.10 | 14.71 | 19.46 | 22.50 | 24.18 | 26.02 | 29.61
32 | 11.19 | 14.88 | 19.70 | 22.92 | 24.62 | 26.52 | 30.17
33 | 11.30 | 15.05 | 19.94 | 23.33 | 25.05 | 27.00 | 30.73
34 | 11.43 | 15.16 | 20.12 | 23.73 | 25.47 | 27.47 | 31.27
35 | 11.54 | 15.35 | 20.35 | 24.13 | 25.88 | 27.94 | 31.81
For OBMC Presort pieces over 35 pounds, use Nonmachinable prices.

b. Machinable OBMC Presort (Nonbarcoded)

The machinable OBMC Presort prices include a $0.03 barcode discount. Add $0.03 if the mailpiece is not barcoded.

c. Balloon Rate

Pieces exceeding 84 inches in length and girth combined (but not more than 108 inches) and weighing less than 20 pounds are subject to a price equal to that for a 20-pound parcel for the zone to which the parcel is addressed.

c. Nonmachinable OBMC Presort

Maximum weight (pounds) | Zones 1 & 2 ($) | Zone 3 ($) | Zone 4 ($) | Zone 5 ($) | Zone 6 ($) | Zone 7 ($) | Zone 8 ($)
1 | 6.83 | 6.83 | 6.83 | 6.83 | 6.83 | 6.83 | 6.83
2 | 6.83 | 7.13 | 7.63 | 8.22 | 8.41 | 8.63 | 8.95
3 | 7.33 | 7.98 | 8.88 | 9.22 | 9.50 | 9.80 | 10.40
4 | 8.03 | 9.03 | 9.83 | 10.16 | 10.51 | 10.90 | 11.66
5 | 8.68 | 9.98 | 10.65 | 11.04 | 11.47 | 11.95 | 12.86
6 | 9.28 | 10.88 | 11.43 | 11.89 | 12.39 | 12.94 | 14.00
7 | 9.83 | 11.62 | 12.17 | 12.70 | 13.26 | 13.88 | 15.09
8 | 10.28 | 11.98 | 12.89 | 13.47 | 14.10 | 14.79 | 16.13
9 | 10.68 | 12.34 | 13.58 | 14.22 | 14.91 | 15.67 | 17.14
10 | 11.08 | 13.48 | 14.24 | 14.94 | 15.68 | 16.51 | 18.11
11 | 11.43 | 13.88 | 14.88 | 15.63 | 16.44 | 17.32 | 19.04
12 | 11.78 | 14.18 | 15.50 | 16.30 | 17.16 | 18.11 | 19.95
13 | 12.18 | 14.45 | 16.10 | 16.95 | 17.87 | 18.87 | 20.83
14 | 12.39 | 14.79 | 16.69 | 17.58 | 18.55 | 19.61 | 21.68
15 | 12.57 | 15.07 | 17.25 | 18.20 | 19.21 | 20.33 | 22.50
16 | 12.72 | 15.34 | 17.80 | 18.79 | 19.86 | 21.03 | 23.31
17 | 12.91 | 15.57 | 18.34 | 19.37 | 20.49 | 21.71 | 24.09
18 | 13.05 | 15.82 | 18.86 | 19.94 | 21.10 | 22.38 | 24.85
19 | 13.24 | 16.07 | 19.37 | 20.49 | 21.70 | 23.02 | 25.60
20 | 13.37 | 16.30 | 19.87 | 21.03 | 22.28 | 23.65 | 26.32
21 | 13.53 | 16.54 | 20.36 | 21.55 | 22.85 | 24.27 | 27.03
22 | 13.66 | 16.72 | 20.75 | 22.07 | 23.40 | 24.87 | 27.72
23 | 13.81 | 16.98 | 21.08 | 22.57 | 23.95 | 25.46 | 28.40
24 | 13.92 | 17.17 | 21.35 | 23.06 | 24.48 | 26.04 | 29.06
25 | 14.07 | 17.36 | 21.65 | 23.54 | 25.00 | 26.60 | 29.71
26 | 14.18 | 17.55 | 21.92 | 24.01 | 25.51 | 27.15 | 30.35
27 | 14.35 | 17.74 | 22.17 | 24.47 | 26.01 | 27.69 | 30.97
28 | 14.44 | 17.93 | 22.46 | 24.92 | 26.50 | 28.22 | 31.58
29 | 14.58 | 18.12 | 22.72 | 25.37 | 26.98 | 28.74 | 32.18
30 | 14.69 | 18.27 | 22.95 | 25.80 | 27.45 | 29.25 | 32.76
31 | 14.83 | 18.44 | 23.19 | 26.23 | 27.91 | 29.75 | 33.34
32 | 14.92 | 18.61 | 23.43 | 26.65 | 28.35 | 30.25 | 33.90
33 | 15.03 | 18.78 | 23.67 | 27.06 | 28.78 | 30.73 | 34.46
34 | 15.16 | 18.89 | 23.85 | 27.46 | 29.20 | 31.20 | 35.00
35 | 15.27 | 19.08 | 24.08 | 27.86 | 29.61 | 31.67 | 35.54
36 | 15.37 | 19.22 | 24.32 | 28.25 | 30.01 | 32.12 | 36.06
37 | 15.47 | 19.35 | 24.48 | 28.63 | 30.40 | 32.57 | 36.58
38 | 15.57 | 19.53 | 24.67 | 29.01 | 30.79 | 33.01 | 37.09
39 | 15.69 | 19.63 | 24.86 | 29.38 | 31.18 | 33.45 | 37.59
40 | 15.79 | 19.80 | 25.07 | 29.74 | 31.56 | 33.88 | 38.08
41 | 15.92 | 19.94 | 25.23 | 30.10 | 31.93 | 34.30 | 38.56
42 | 16.01 | 20.06 | 25.41 | 30.45 | 32.30 | 34.71 | 39.04
43 | 16.07 | 20.19 | 25.60 | 30.80 | 32.67 | 35.12 | 39.51
44 | 16.18 | 20.29 | 25.75 | 31.14 | 33.03 | 35.52 | 39.97
45 | 16.28 | 20.44 | 25.93 | 31.48 | 33.38 | 35.92 | 40.42
46 | 16.37 | 20.56 | 26.11 | 31.81 | 33.72 | 36.30 | 40.87
47 | 16.49 | 20.70 | 26.25 | 32.14 | 34.07 | 36.69 | 41.31
48 | 16.57 | 20.81 | 26.43 | 32.46 | 34.42 | 37.07 | 41.75
49 | 16.63 | 20.94 | 26.57 | 32.78 | 34.74 | 37.44 | 42.17
50 | 16.72 | 21.03 | 26.69 | 33.09 | 35.08 | 37.81 | 42.60
51 | 16.84 | 21.17 | 26.87 | 33.40 | 35.41 | 38.17 | 43.01
52 | 16.91 | 21.28 | 27.01 | 33.71 | 35.73 | 38.52 | 43.42
53 | 17.03 | 21.37 | 27.10 | 34.01 | 36.05 | 38.88 | 43.83
54 | 17.09 | 21.52 | 27.28 | 34.30 | 36.36 | 39.22 | 44.23
55 | 17.17 | 21.56 | 27.42 | 34.49 | 36.67 | 39.57 | 44.62
56 | 17.27 | 21.73 | 27.54 | 34.66 | 36.98 | 39.90 | 45.01
57 | 17.36 | 21.82 | 27.68 | 34.80 | 37.28 | 40.24 | 45.39
58 | 17.43 | 21.92 | 27.80 | 34.95 | 37.59 | 40.57 | 45.77
59 | 17.52 | 22.02 | 27.94 | 35.09 | 37.89 | 40.89 | 46.14
60 | 17.61 | 22.11 | 28.08 | 35.23 | 38.18 | 41.21 | 46.51
61 | 17.73 | 22.25 | 28.18 | 35.36 | 38.48 | 41.53 | 46.88
62 | 17.80 | 22.32 | 28.31 | 35.50 | 38.76 | 41.84 | 47.24
63 | 17.85 | 22.44 | 28.43 | 35.62 | 39.04 | 42.15 | 47.59
64 | 17.93 | 22.50 | 28.53 | 35.75 | 39.32 | 42.45 | 47.94
65 | 18.01 | 22.62 | 28.66 | 35.88 | 39.60 | 42.76 | 48.29
66 | 18.12 | 22.72 | 28.75 | 35.99 | 39.89 | 43.05 | 48.63
67 | 18.21 | 22.82 | 28.88 | 36.12 | 40.16 | 43.35 | 48.97
68 | 18.26 | 22.91 | 29.01 | 36.23 | 40.43 | 43.64 | 49.30
69 | 18.33 | 22.97 | 29.11 | 36.35 | 40.70 | 43.92 | 49.63
70 | 18.44 | 23.10 | 29.22 | 36.45 | 40.96 | 44.21 | 49.96
Oversized | 53.42 | 58.46 | 61.81 | 73.88 | 87.82 | 93.41 | 119.46

d. Balloon Rate

Pieces exceeding 84 inches in length and girth combined and weighing less than 20 pounds are subject to a price equal to that for a 20-pound parcel for the zone to which the parcel is addressed.

e. Oversized Price

Regardless of weight, any piece that measures more than 108 inches (but not more than 130 inches) in combined length plus girth must pay the oversized price.

BMC Presort Entered

a. Machinable BMC Presort (Barcoded)

Maximum weight (pounds) | Zones 1 & 2 ($) | Zone 3 ($) | Zone 4 ($) | Zone 5 ($) | Zone 6 ($) | Zone 7 ($) | Zone 8 ($)
1 | 4.20 | 4.20 | 4.20 | 4.20 | 4.20 | 4.20 | 4.20
2 | 4.20 | 4.50 | 5.00 | 5.59 | 5.78 | 6.00 | 6.32
3 | 4.70 | 5.35 | 6.25 | 6.59 | 6.87 | 7.17 | 7.77
4 | 5.40 | 6.40 | 7.20 | 7.53 | 7.88 | 8.27 | 9.03
5 | 6.05 | 7.35 | 8.02 | 8.41 | 8.84 | 9.32 | 10.23
6 | 6.65 | 8.25 | 8.80 | 9.26 | 9.76 | 10.31 | 11.37
7 | 7.20 | 8.99 | 9.54 | 10.07 | 10.63 | 11.25 | 12.46
8 | 7.65 | 9.35 | 10.26 | 10.84 | 11.47 | 12.16 | 13.50
9 | 8.05 | 9.71 | 10.95 | 11.59 | 12.28 | 13.04 | 14.51
10 | 8.45 | 10.85 | 11.61 | 12.31 | 13.05 | 13.88 | 15.48
11 | 8.80 | 11.25 | 12.25 | 13.00 | 13.81 | 14.69 | 16.41
12 | 9.15 | 11.55 | 12.87 | 13.67 | 14.53 | 15.48 | 17.32
13 | 9.55 | 11.82 | 13.47 | 14.32 | 15.24 | 16.24 | 18.20
14 | 9.76 | 12.16 | 14.06 | 14.95 | 15.92 | 16.98 | 19.05
15 | 9.94 | 12.44 | 14.62 | 15.57 | 16.58 | 17.70 | 19.87
16 | 10.09 | 12.71 | 15.17 | 16.16 | 17.23 | 18.40 | 20.68
17 | 10.28 | 12.94 | 15.71 | 16.74 | 17.86 | 19.08 | 21.46
18 | 10.42 | 13.19 | 16.23 | 17.31 | 18.47 | 19.75 | 22.22
19 | 10.61 | 13.44 | 16.74 | 17.86 | 19.07 | 20.39 | 22.97
20 | 10.74 | 13.67 | 17.24 | 18.40 | 19.65 | 21.02 | 23.69
21 | 10.90 | 13.91 | 17.73 | 18.92 | 20.22 | 21.64 | 24.40
22 | 11.03 | 14.09 | 18.12 | 19.44 | 20.77 | 22.24 | 25.09
23 | 11.18 | 14.35 | 18.45 | 19.94 | 21.32 | 22.83 | 25.77
24 | 11.29 | 14.54 | 18.72 | 20.43 | 21.85 | 23.41 | 26.43
25 | 11.44 | 14.73 | 19.02 | 20.91 | 22.37 | 23.97 | 27.08
26 | 11.55 | 14.92 | 19.29 | 21.38 | 22.88 | 24.52 | 27.72
27 | 11.72 | 15.11 | 19.54 | 21.84 | 23.38 | 25.06 | 28.34
28 | 11.81 | 15.30 | 19.83 | 22.29 | 23.87 | 25.59 | 28.95
29 | 11.95 | 15.49 | 20.09 | 22.74 | 24.35 | 26.11 | 29.55
30 | 12.06 | 15.64 | 20.32 | 23.17 | 24.82 | 26.62 | 30.13
31 | 12.20 | 15.81 | 20.56 | 23.60 | 25.28 | 27.12 | 30.71
32 | 12.29 | 15.98 | 20.80 | 24.02 | 25.72 | 27.62 | 31.27
33 | 12.40 | 16.15 | 21.04 | 24.43 | 26.15 | 28.10 | 31.83
34 | 12.53 | 16.26 | 21.22 | 24.83 | 26.57 | 28.57 | 32.37
35 | 12.64 | 16.45 | 21.45 | 25.23 | 26.98 | 29.04 | 32.91
For BMC Presort pieces over 35 pounds, use Nonmachinable prices.

b. Machinable BMC Presort (Nonbarcoded)

The machinable BMC Presort prices include a $0.03 barcode discount. Add $0.03 if the mailpiece is not barcoded.

c. Balloon Rate

Pieces exceeding 84 inches in length and girth combined (but not more than 108 inches) and weighing less than 20 pounds are subject to a price equal to that for a 20-pound parcel for the zone to which the parcel is addressed.

c. Nonmachinable BMC Presort

Maximum weight (pounds) | Zones 1 & 2 ($) | Zone 3 ($) | Zone 4 ($) | Zone 5 ($) | Zone 6 ($) | Zone 7 ($) | Zone 8 ($)
1 | 7.93 | 7.93 | 7.93 | 7.93 | 7.93 | 7.93 | 7.93
2 | 7.93 | 8.23 | 8.73 | 9.32 | 9.51 | 9.73 | 10.05
3 | 8.43 | 9.08 | 9.98 | 10.32 | 10.60 | 10.90 | 11.50
4 | 9.13 | 10.13 | 10.93 | 11.26 | 11.61 | 12.00 | 12.76
5 | 9.78 | 11.08 | 11.75 | 12.14 | 12.57 | 13.05 | 13.96
6 | 10.38 | 11.98 | 12.53 | 12.99 | 13.49 | 14.04 | 15.10
7 | 10.93 | 12.72 | 13.27 | 13.80 | 14.36 | 14.98 | 16.19
8 | 11.38 | 13.08 | 13.99 | 14.57 | 15.20 | 15.89 | 17.23
9 | 11.78 | 13.44 | 14.68 | 15.32 | 16.01 | 16.77 | 18.24
10 | 12.18 | 14.58 | 15.34 | 16.04 | 16.78 | 17.61 | 19.21
11 | 12.53 | 14.98 | 15.98 | 16.73 | 17.54 | 18.42 | 20.14
12 | 12.88 | 15.28 | 16.60 | 17.40 | 18.26 | 19.21 | 21.05
13 | 13.28 | 15.55 | 17.20 | 18.05 | 18.97 | 19.97 | 21.93
14 | 13.49 | 15.89 | 17.79 | 18.68 | 19.65 | 20.71 | 22.78
15 | 13.67 | 16.17 | 18.35 | 19.30 | 20.31 | 21.43 | 23.60
16 | 13.82 | 16.44 | 18.90 | 19.89 | 20.96 | 22.13 | 24.41
17 | 14.01 | 16.67 | 19.44 | 20.47 | 21.59 | 22.81 | 25.19
18 | 14.15 | 16.92 | 19.96 | 21.04 | 22.20 | 23.48 | 25.95
19 | 14.34 | 17.17 | 20.47 | 21.59 | 22.80 | 24.12 | 26.70
20 | 14.47 | 17.40 | 20.97 | 22.13 | 23.38 | 24.75 | 27.42
21 | 14.63 | 17.64 | 21.46 | 22.65 | 23.95 | 25.37 | 28.13
22 | 14.76 | 17.82 | 21.85 | 23.17 | 24.50 | 25.97 | 28.82
23 | 14.91 | 18.08 | 22.18 | 23.67 | 25.05 | 26.56 | 29.50
24 | 15.02 | 18.27 | 22.45 | 24.16 | 25.58 | 27.14 | 30.16
25 | 15.17 | 18.46 | 22.75 | 24.64 | 26.10 | 27.70 | 30.81
26 | 15.28 | 18.65 | 23.02 | 25.11 | 26.61 | 28.25 | 31.45
27 | 15.45 | 18.84 | 23.27 | 25.57 | 27.11 | 28.79 | 32.07
28 | 15.54 | 19.03 | 23.56 | 26.02 | 27.60 | 29.32 | 32.68
29 | 15.68 | 19.22 | 23.82 | 26.47 | 28.08 | 29.84 | 33.28
30 | 15.79 | 19.37 | 24.05 | 26.90 | 28.55 | 30.35 | 33.86
31 | 15.93 | 19.54 | 24.29 | 27.33 | 29.01 | 30.85 | 34.44
32 | 16.02 | 19.71 | 24.53 | 27.75 | 29.45 | 31.35 | 35.00
33 | 16.13 | 19.88 | 24.77 | 28.16 | 29.88 | 31.83 | 35.56
34 | 16.26 | 19.99 | 24.95 | 28.56 | 30.30 | 32.30 | 36.10
35 | 16.37 | 20.18 | 25.18 | 28.96 | 30.71 | 32.77 | 36.64
36 | 16.47 | 20.32 | 25.42 | 29.35 | 31.11 | 33.22 | 37.16
37 | 16.57 | 20.45 | 25.58 | 29.73 | 31.50 | 33.67 | 37.68
38 | 16.67 | 20.63 | 25.77 | 30.11 | 31.89 | 34.11 | 38.19
39 | 16.79 | 20.73 | 25.96 | 30.48 | 32.28 | 34.55 | 38.69
40 | 16.89 | 20.90 | 26.17 | 30.84 | 32.66 | 34.98 | 39.18
41 | 17.02 | 21.04 | 26.33 | 31.20 | 33.03 | 35.40 | 39.66
42 | 17.11 | 21.16 | 26.51 | 31.55 | 33.40 | 35.81 | 40.14
43 | 17.17 | 21.29 | 26.70 | 31.90 | 33.77 | 36.22 | 40.61
44 | 17.28 | 21.39 | 26.85 | 32.24 | 34.13 | 36.62 | 41.07
45 | 17.38 | 21.54 | 27.03 | 32.58 | 34.48 | 37.02 | 41.52
46 | 17.47 | 21.66 | 27.21 | 32.91 | 34.82 | 37.40 | 41.97
47 | 17.59 | 21.80 | 27.35 | 33.24 | 35.17 | 37.79 | 42.41
48 | 17.67 | 21.91 | 27.53 | 33.56 | 35.52 | 38.17 | 42.85
49 | 17.73 | 22.04 | 27.67 | 33.88 | 35.84 | 38.54 | 43.27
50 | 17.82 | 22.13 | 27.79 | 34.19 | 36.18 | 38.91 | 43.70
51 | 17.94 | 22.27 | 27.97 | 34.50 | 36.51 | 39.27 | 44.11
52 | 18.01 | 22.38 | 28.11 | 34.81 | 36.83 | 39.62 | 44.52
53 | 18.13 | 22.47 | 28.20 | 35.11 | 37.15 | 39.98 | 44.93
54 | 18.19 | 22.62 | 28.38 | 35.40 | 37.46 | 40.32 | 45.33
55 | 18.27 | 22.66 | 28.52 | 35.59 | 37.77 | 40.67 | 45.72
56 | 18.37 | 22.83 | 28.64 | 35.76 | 38.08 | 41.00 | 46.11
57 | 18.46 | 22.92 | 28.78 | 35.90 | 38.38 | 41.34 | 46.49
58 | 18.53 | 23.02 | 28.90 | 36.05 | 38.69 | 41.67 | 46.87
59 | 18.62 | 23.12 | 29.04 | 36.19 | 38.99 | 41.99 | 47.24
60 | 18.71 | 23.21 | 29.18 | 36.33 | 39.28 | 42.31 | 47.61
61 | 18.83 | 23.35 | 29.28 | 36.46 | 39.58 | 42.63 | 47.98
62 | 18.90 | 23.42 | 29.41 | 36.60 | 39.86 | 42.94 | 48.34
63 | 18.95 | 23.54 | 29.53 | 36.72 | 40.14 | 43.25 | 48.69
64 | 19.03 | 23.60 | 29.63 | 36.85 | 40.42 | 43.55 | 49.04
65 | 19.11 | 23.72 | 29.76 | 36.98 | 40.70 | 43.86 | 49.39
66 | 19.22 | 23.82 | 29.85 | 37.09 | 40.99 | 44.15 | 49.73
67 | 19.31 | 23.92 | 29.98 | 37.22 | 41.26 | 44.45 | 50.07
68 | 19.36 | 24.01 | 30.11 | 37.33 | 41.53 | 44.74 | 50.40
69 | 19.43 | 24.07 | 30.21 | 37.45 | 41.80 | 45.02 | 50.73
70 | 19.54 | 24.20 | 30.32 | 37.55 | 42.06 | 45.31 | 51.06
Oversized | 54.52 | 59.56 | 62.91 | 74.98 | 88.92 | 94.51 | 120.56

d. Balloon Rate

Pieces exceeding 84 inches in length and girth combined (but not more than 108 inches) and weighing less than 20 pounds are subject to a price equal to that for a 20-pound parcel for the zone to which the parcel is addressed.

e. Oversized Price

Regardless of weight, any piece that measures more than 108 inches (but not more than 130 inches) in combined length plus girth must pay the oversized price.

Barcoded Inter-BMC and Intra-BMC Entered

a. Barcoded Inter-BMC

Maximum weight (pounds) | Zones 1 & 2 ($) | Zone 3 ($) | Zone 4 ($) | Zone 5 ($) | Zone 6 ($) | Zone 7 ($) | Zone 8 ($)
1 | 4.52 | 4.52 | 4.52 | 4.52 | 4.52 | 4.52 | 4.52
2 | 4.52 | 4.82 | 5.32 | 5.91 | 6.10 | 6.32 | 6.64
3 | 5.02 | 5.67 | 6.57 | 6.91 | 7.19 | 7.49 | 8.09
4 | 5.72 | 6.72 | 7.52 | 7.85 | 8.20 | 8.59 | 9.35
5 | 6.37 | 7.67 | 8.34 | 8.73 | 9.16 | 9.64 | 10.55
6 | 6.97 | 8.57 | 9.12 | 9.58 | 10.08 | 10.63 | 11.69
7 | 7.52 | 9.31 | 9.86 | 10.39 | 10.95 | 11.57 | 12.78
8 | 7.97 | 9.67 | 10.58 | 11.16 | 11.79 | 12.48 | 13.82
9 | 8.37 | 10.03 | 11.27 | 11.91 | 12.60 | 13.36 | 14.83
10 | 8.77 | 11.17 | 11.93 | 12.63 | 13.37 | 14.20 | 15.80
11 | 9.12 | 11.57 | 12.57 | 13.32 | 14.13 | 15.01 | 16.73
12 | 9.47 | 11.87 | 13.19 | 13.99 | 14.85 | 15.80 | 17.64
13 | 9.87 | 12.14 | 13.79 | 14.64 | 15.56 | 16.56 | 18.52
14 | 10.08 | 12.48 | 14.38 | 15.27 | 16.24 | 17.30 | 19.37
15 | 10.26 | 12.76 | 14.94 | 15.89 | 16.90 | 18.02 | 20.19
16 | 10.41 | 13.03 | 15.49 | 16.48 | 17.55 | 18.72 | 21.00
17 | 10.60 | 13.26 | 16.03 | 17.06 | 18.18 | 19.40 | 21.78
18 | 10.74 | 13.51 | 16.55 | 17.63 | 18.79 | 20.07 | 22.54
19 | 10.93 | 13.76 | 17.06 | 18.18 | 19.39 | 20.71 | 23.29
20 | 11.06 | 13.99 | 17.56 | 18.72 | 19.97 | 21.34 | 24.01
21 | 11.22 | 14.23 | 18.05 | 19.24 | 20.54 | 21.96 | 24.72
22 | 11.35 | 14.41 | 18.44 | 19.76 | 21.09 | 22.56 | 25.41
23 | 11.50 | 14.67 | 18.77 | 20.26 | 21.64 | 23.15 | 26.09
24 | 11.61 | 14.86 | 19.04 | 20.75 | 22.17 | 23.73 | 26.75
25 | 11.76 | 15.05 | 19.34 | 21.23 | 22.69 | 24.29 | 27.40
26 | 11.87 | 15.24 | 19.61 | 21.70 | 23.20 | 24.84 | 28.04
27 | 12.04 | 15.43 | 19.86 | 22.16 | 23.70 | 25.38 | 28.66
28 | 12.13 | 15.62 | 20.15 | 22.61 | 24.19 | 25.91 | 29.27
29 | 12.27 | 15.81 | 20.41 | 23.06 | 24.67 | 26.43 | 29.87
30 | 12.38 | 15.96 | 20.64 | 23.49 | 25.14 | 26.94 | 30.45
31 | 12.52 | 16.13 | 20.88 | 23.92 | 25.60 | 27.44 | 31.03
32 | 12.61 | 16.30 | 21.12 | 24.34 | 26.04 | 27.94 | 31.59
33 | 12.72 | 16.47 | 21.36 | 24.75 | 26.47 | 28.42 | 32.15
34 | 12.85 | 16.58 | 21.54 | 25.15 | 26.89 | 28.89 | 32.69
35 | 12.96 | 16.77 | 21.77 | 25.55 | 27.30 | 29.36 | 33.23

b. Balloon Rate

Pieces exceeding 84 inches in length and girth combined (but not more than 108 inches) and weighing less than 20 pounds are subject to a price equal to that for a 20-pound parcel for the zone to which the parcel is addressed.

c. Barcoded Intra-BMC

Maximum weight (pounds) | Local zones ($) | Zones 1 & 2 ($) | Zone 3 ($) | Zone 4 ($) | Zone 5 ($)
1 | 3.64 | 3.99 | 4.02 | 4.11 | 4.30
2 | 4.08 | 4.47 | 4.77 | 4.86 | 5.13
3 | 4.48 | 4.97 | 5.45 | 5.57 | 5.94
4 | 4.85 | 5.67 | 6.08 | 6.20 | 6.68
5 | 5.18 | 6.26 | 6.62 | 6.77 | 7.37
6 | 5.48 | 6.64 | 7.12 | 7.27 | 7.98
7 | 5.71 | 7.00 | 7.57 | 7.74 | 8.57
8 | 5.90 | 7.58 | 8.00 | 8.18 | 9.10
9 | 6.10 | 7.90 | 8.39 | 8.62 | 9.59
10 | 6.29 | 8.24 | 8.81 | 9.31 | 10.05
11 | 6.46 | 8.53 | 9.15 | 9.67 | 10.47
12 | 6.64 | 8.84 | 9.49 | 10.02 | 10.87
13 | 6.81 | 9.04 | 9.79 | 10.35 | 11.25
14 | 6.97 | 9.21 | 10.07 | 10.71 | 11.59
15 | 7.12 | 9.38 | 10.36 | 11.00 | 11.91
16 | 7.28 | 9.54 | 10.66 | 11.28 | 12.23
17 | 7.42 | 9.74 | 10.93 | 11.59 | 12.51
18 | 7.56 | 9.88 | 11.19 | 11.84 | 12.78
19 | 7.69 | 10.04 | 11.46 | 12.10 | 13.04
20 | 7.84 | 10.21 | 11.72 | 12.32 | 13.27
21 | 7.96 | 10.33 | 11.96 | 12.55 | 13.50
22 | 8.09 | 10.50 | 12.20 | 12.79 | 13.71
23 | 8.22 | 10.61 | 12.45 | 13.03 | 13.94
24 | 8.35 | 10.76 | 12.68 | 13.27 | 14.13
25 | 8.47 | 10.88 | 12.90 | 13.49 | 14.33
26 | 8.58 | 11.03 | 13.11 | 13.72 | 14.49
27 | 8.70 | 11.15 | 13.34 | 13.94 | 14.66
28 | 8.81 | 11.26 | 13.56 | 14.14 | 14.85
29 | 8.93 | 11.39 | 13.77 | 14.35 | 15.07
30 | 9.05 | 11.51 | 13.96 | 14.54 | 15.27
31 | 9.15 | 11.63 | 14.14 | 14.74 | 15.49
32 | 9.23 | 11.75 | 14.35 | 14.94 | 15.67
33 | 9.35 | 11.86 | 14.52 | 15.11 | 15.87
34 | 9.42 | 11.97 | 14.64 | 15.30 | 16.06
35 | 9.50 | 12.07 | 14.81 | 15.48 | 16.24

d. Balloon Rate

Pieces exceeding 84 inches in length and girth combined (but not more than 108 inches) and weighing less than 20 pounds are subject to a price equal to that for a 20-pound parcel for the zone to which the parcel is addressed.

2120 Parcel Return Service

2120.1 Description

a. Parcel Return Service mail consists of returned merchandise meeting preparation and entry requirements, which is retrieved in bulk at designated facilities, with postage paid by the addressee.

b. Any mailable matter may be mailed as Parcel Return Service mail, except matter required to be mailed by First-Class Mail or Priority Mail services; and publications required to be entered as Periodicals mail.

c. Parcel Return Service mail is not sealed against postal inspection. Mailing of matter as such constitutes consent by the mailer to postal inspection of the contents, regardless of the physical closure.

d. Undeliverable-as-addressed Parcel Return Service pieces will be forwarded on request of the addressee or forwarded or returned on request of the mailer, subject to the applicable Single-Piece Parcel Post price when forwarded or returned from one Post Office location to another. Pieces which combine Parcel Return Service matter with First-Class Mail or Standard Mail matter will be forwarded or returned if undeliverable-as-addressed, as specified in the Domestic Mail Manual.

e. Payment of an annual mailing permit fee and an account maintenance fee are required for Parcel Return Service (1505.2).

f. Attachments and Enclosures. First-Class Mail or Standard Mail pieces may be attached to or enclosed in Parcel Return Service mail. Additional postage may be required. Parcel Return Service mail may have limited written additions placed on the wrapper, on a tag or label attached to the outside of the parcel, or inside the parcel, either loose or attached to the article.

2120.2 Size and Weight Limitations

| Length | Height | Thickness | Weight
Minimum | Large enough to accommodate postage, address, and other required elements on the address side. |  |  | None.
Maximum | 130 inches in combined length and girth. |  |  | 70 pounds.

2120.3 Minimum Volume Requirements

| Minimum volume requirements
Parcel Return Service | None.

2120.4 Price Categories

• RBMC (Contains merchandise and is retrieved in bulk at a bulk mail center, or other equivalent facility.)

○ Machinable

○ Nonmachinable

○ Balloon Rate

○ Oversized

• RDU (Contains merchandise and is retrieved in bulk at a designated destination delivery unit, or other equivalent facility.)

○ Machinable

○ Nonmachinable

○ Oversized

2120.5 Optional Features

The following additional postal services may be available in conjunction with the product specified in this section:

• Ancillary Services (1505)

○ Certificate of Mailing (1505.6)

2120.6 Prices

RBMC Entered

a. Machinable RBMC

Maximum weight (pounds) | RBMC zones 1 & 2 ($) | RBMC zone 3 ($) | RBMC zone 4 ($) | RBMC zone 5 ($)
1 | 2.54 | 2.68 | 2.76 | 2.98
2 | 3.43 | 3.48 | 3.59 | 3.89
3 | 4.17 | 4.22 | 4.35 | 4.76
4 | 4.65 | 4.90 | 5.03 | 5.56
5 | 5.10 | 5.49 | 5.66 | 6.31
6 | 5.51 | 6.04 | 6.20 | 6.98
7 | 5.85 | 6.52 | 6.72 | 7.61
8 | 6.53 | 6.99 | 7.19 | 8.19
9 | 6.88 | 7.41 | 7.67 | 8.72
10 | 7.17 | 7.86 | 8.41 | 9.22
11 | 7.35 | 8.23 | 8.80 | 9.67
12 | 7.58 | 8.60 | 9.18 | 10.11
13 | 7.79 | 8.93 | 9.54 | 10.52
14 | 7.97 | 9.23 | 9.94 | 10.89
15 | 8.12 | 9.55 | 10.24 | 11.23
16 | 8.29 | 9.87 | 10.55 | 11.59
17 | 8.50 | 10.17 | 10.89 | 11.88
18 | 8.63 | 10.45 | 11.16 | 12.18
19 | 8.81 | 10.74 | 11.44 | 12.46
20 | 8.95 | 10.96 | 11.67 | 12.71
21 | 9.10 | 11.18 | 11.92 | 12.96
22 | 9.26 | 11.36 | 12.19 | 13.19
23 | 9.39 | 11.61 | 12.45 | 13.44
24 | 9.50 | 11.77 | 12.71 | 13.64
25 | 9.63 | 11.97 | 12.95 | 13.86
26 | 9.77 | 12.13 | 13.20 | 14.03
27 | 9.90 | 12.32 | 13.44 | 14.22
28 | 10.00 | 12.50 | 13.61 | 14.42
29 | 10.13 | 12.69 | 13.76 | 14.66
30 | 10.26 | 12.83 | 13.91 | 14.87
31 | 10.38 | 12.96 | 14.04 | 15.11
32 | 10.53 | 13.13 | 14.20 | 15.31
33 | 10.61 | 13.28 | 14.32 | 15.53
34 | 10.74 | 13.40 | 14.45 | 15.69
35 | 10.82 | 13.56 | 14.56 | 15.83

b. Nonmachinable RBMC

Maximum weight (pounds) | RBMC zones 1 & 2 ($) | RBMC zone 3 ($) | RBMC zone 4 ($) | RBMC zone 5 ($)
1 | 4.75 | 4.89 | 4.97 | 5.19
2 | 5.64 | 5.69 | 5.80 | 6.10
3 | 6.38 | 6.43 | 6.56 | 6.97
4 | 6.86 | 7.11 | 7.24 | 7.77
5 | 7.31 | 7.70 | 7.87 | 8.52
6 | 7.72 | 8.25 | 8.41 | 9.19
7 | 8.06 | 8.73 | 8.93 | 9.82
8 | 8.74 | 9.20 | 9.40 | 10.40
9 | 9.09 | 9.62 | 9.88 | 10.93
10 | 9.38 | 10.07 | 10.62 | 11.43
11 | 9.56 | 10.44 | 11.01 | 11.88
12 | 9.79 | 10.81 | 11.39 | 12.32
13 | 10.00 | 11.14 | 11.75 | 12.73
14 | 10.18 | 11.44 | 12.15 | 13.10
15 | 10.33 | 11.76 | 12.45 | 13.44
16 | 10.50 | 12.08 | 12.76 | 13.80
17 | 10.71 | 12.38 | 13.10 | 14.09
18 | 10.84 | 12.66 | 13.37 | 14.39
19 | 11.02 | 12.95 | 13.65 | 14.67
20 | 11.16 | 13.17 | 13.88 | 14.92
21 | 11.31 | 13.39 | 14.13 | 15.17
22 | 11.47 | 13.57 | 14.40 | 15.40
23 | 11.60 | 13.82 | 14.66 | 15.65
24 | 11.71 | 13.98 | 14.92 | 15.85
25 | 11.84 | 14.18 | 15.16 | 16.07
26 | 11.98 | 14.34 | 15.41 | 16.24
27 | 12.11 | 14.53 | 15.65 | 16.43
28 | 12.21 | 14.71 | 15.82 | 16.63
29 | 12.34 | 14.90 | 15.97 | 16.87
30 | 12.47 | 15.04 | 16.12 | 17.08
31 | 12.59 | 15.17 | 16.25 | 17.32
32 | 12.74 | 15.34 | 16.41 | 17.52
33 | 12.82 | 15.49 | 16.53 | 17.74
34 | 12.95 | 15.61 | 16.66 | 17.90
35 | 13.03 | 15.77 | 16.77 | 18.04
36 | 13.17 | 15.95 | 16.92 | 18.23
37 | 13.28 | 16.06 | 17.02 | 18.31
38 | 13.34 | 16.15 | 17.08 | 18.38
39 | 13.42 | 16.27 | 17.16 | 18.45
40 | 13.49 | 16.35 | 17.20 | 18.53
41 | 13.59 | 16.48 | 17.27 | 18.60
42 | 13.63 | 16.56 | 17.33 | 18.67
43 | 13.69 | 16.66 | 17.41 | 18.70
44 | 13.77 | 16.74 | 17.46 | 18.74
45 | 13.82 | 16.81 | 17.68 | 18.81
46 | 13.92 | 16.92 | 17.73 | 18.84
47 | 13.98 | 16.97 | 17.76 | 18.89
48 | 14.04 | 17.08 | 17.79 | 18.94
49 | 14.11 | 17.17 | 17.84 | 18.97
50 | 14.12 | 17.24 | 17.87 | 19.03
51 | 14.23 | 17.30 | 17.90 | 19.08
52 | 14.28 | 17.42 | 17.96 | 19.11
53 | 14.31 | 17.46 | 17.97 | 19.17
54 | 14.37 | 17.49 | 18.01 | 19.20
55 | 14.42 | 17.52 | 18.04 | 19.24
56 | 14.48 | 17.55 | 18.09 | 19.30
57 | 14.55 | 17.55 | 18.09 | 19.34
58 | 14.61 | 17.58 | 18.11 | 19.39
59 | 14.66 | 17.60 | 18.13 | 19.44
60 | 14.73 | 17.61 | 18.13 | 19.47
61 | 14.78 | 17.62 | 18.16 | 19.52
62 | 14.82 | 17.63 | 18.24 | 19.55
63 | 14.89 | 17.63 | 18.31 | 19.62
64 | 14.94 | 17.63 | 18.35 | 19.66
65 | 14.99 | 17.68 | 18.40 | 19.70
66 | 15.05 | 17.68 | 18.47 | 19.75
67 | 15.12 | 17.69 | 18.56 | 19.79
68 | 15.12 | 17.69 | 18.59 | 19.82
69 | 15.19 | 17.69 | 18.67 | 19.89
70 | 15.25 | 17.69 | 18.72 | 19.93
Oversized | 32.45 | 33.00 | 34.00 | 35.51

c. Balloon Rate

RBMC entered pieces exceeding 84 inches in length and girth combined, but not more than 108 inches, and weighing less than 20 pounds are subject to a price equal to that for a 20-pound parcel for the zone to which the parcel is addressed.

d. Oversized Pieces

Regardless of weight, any piece that measures more than 108 inches (but not more than 130 inches) in combined length plus girth must pay the oversized price.

RDU Entered

a. Machinable RDU and Nonmachinable RDU to 35 pounds

Maximum weight (pounds) | RDU ($) | Maximum weight (pounds) | RDU ($)
1 | 1.62
2 | 1.69
3 | 1.76
4 | 1.82
5 | 1.88
6 | 1.94
7 | 1.99
8 | 2.04
9 | 2.09
10 | 2.13
11 | 2.22
12 | 2.31
13 | 2.39
14 | 2.46
15 | 2.54
16 | 2.61
17 | 2.68
18 | 2.74
19 | 2.81
20 | 2.87
21 | 2.93
22 | 2.98
23 | 3.04
24 | 3.09
25 | 3.14
26 | 3.19
27 | 3.24
28 | 3.28
29 | 3.33
30 | 3.37
31 | 3.41
32 | 3.46
33 | 3.50
34 | 3.53
35 | 3.57

b. Nonmachinable RDU above 35 pounds

Maximum weight (pounds) | RDU ($) | Maximum weight (pounds) | RDU ($)
36 | 3.61
37 | 3.64
38 | 3.68
39 | 3.71
40 | 3.74
41 | 3.77
42 | 3.80
43 | 3.83
44 | 3.86
45 | 3.89
46 | 3.92
47 | 3.94
48 | 3.97
49 | 4.00
50 | 4.02
51 | 4.04
52 | 4.07
53 | 4.09
54 | 4.11
55 | 4.13
56 | 4.16
57 | 4.18
58 | 4.20
59 | 4.22
60 | 4.23
61 | 4.25
62 | 4.27
63 | 4.29
64 | 4.31
65 | 4.32
66 | 4.34
67 | 4.35
68 | 4.37
69 | 4.39
70 | 4.40
Oversized | 7.68

c. Oversized Pieces

Regardless of weight, any piece that measures more than 108 inches (but not more than 130 inches) in combined length plus girth must pay the oversized price.

2125 Premium Forwarding Service

2125.1 Description

a. Premium Forwarding Service provides residential delivery customers, and certain post office box customers, the option to receive substantially all mail addressed to a primary address instead at a temporary address by means of a weekly Priority Mail shipment. Parcels that are too large for the weekly shipment, mail pieces that require a scan upon delivery or arrive postage due at the office serving the customer's primary address, and certain Priority Mail pieces may be rerouted as specified in the Domestic Mail Manual. Rerouted Express Mail, First-Class Mail, and Priority Mail pieces incur no additional reshipping charges. Rerouted Standard Mail and Package Service pieces may be rerouted postage due.

b. Mail sent to a primary address for which an addressee has activated Premium Forwarding Service is not treated as undeliverable-as-addressed.

c. Premium Forwarding Service is available for a period of at least two weeks and not more than twelve months. Customers may not use Premium Forwarding Service simultaneously with temporary or permanent forwarding orders. Premium Forwarding Service is not available to customers whose primary address consists of a size three, four or five post office box, subject to exceptions allowed by the Postal Service, or a centralized delivery point.

2125.2 Prices

| ($)
Enrollment | 10.00
Weekly Reshipment | 11.95

2200 INTERNATIONAL PRODUCTS

2205 Outbound International Expedited Services

2205.1 Description

Outbound International Expedited Services (Global Express Guaranteed and Express Mail International) provide expedited service to designated outbound international destinations according to requirements specified in the International Mail Manual.

Global Express Guaranteed

a. Global Express Guaranteed (GXG) service offers a postage-refund guarantee for day-certain delivery from select post offices to select foreign destinations.

b. Documents and general correspondence, including matter containing personal information, partially or wholly hand-written or typewritten matter, or bills or statements of account (non-dutiable items) and non-documents (all dutiable items including merchandise) may be shipped using Global Express Guaranteed service.

c. Document reconstruction and non-document insurance for loss or damage up to $100.00 per shipment are included at no additional charge. Additional insurance may be purchased for document and non-document shipments.

d. Only Global Express Guaranteed items that contain documents are sealed against postal inspection and shall not be opened except as authorized by law. e. Discounts for online preparation and payment or for use of an authorized PC postage vendor [or for qualifying customers who pay postage using information-based indicia (IBI) postage meters] may apply.

Express Mail International

a. Express Mail International (EMI) offers transit times that can be longer than for Global Express Guaranteed. Express Mail International with guarantee service provides a postage-refund guarantee for date-certain delivery to a limited number of foreign destinations.

b. Any item not prohibited in international mail may be sent using Express Mail International, including matter containing personal information, partially or wholly hand-written or typewritten matter, or bills or statements of account.

c. Document reconstruction and merchandise insurance up to $100.00 is included in the price of postage. Additional merchandise insurance may be purchased at the time of mailing. Additional document reconstruction insurance may not be purchased.

d. Express Mail International is sealed against postal inspection and shall not be opened except as authorized by law.

e. Discounts for Express Mail Corporate Accounts, permit imprint accounts, online preparation and payment, or for use of an authorized PC postage vendor [or for qualifying customers who pay postage using information-based indicia (IBI) postage meters] may apply.

2205.2 Size and Weight Limitations

Global Express Guaranteed

| Length | Height | Thickness | Weight
Minimum | Must be able to hold the shipping label with pouch (7 inches by 12 inches) and postage. |  |  | None.
Maximum | 46 inches | 35 inches | 46 inches | 70 pounds.
| 108 inches in combined length and girth.

Express Mail International ¹

| Length | Height | Thickness | Weight
Minimum | Large enough to accommodate postage, address, and other required elements on the address side.
Maximum | 36 inches. |
| 79 inches in combined length and girth.
Flat-Rate Envelope | Nominal Size: 9.5 × 12.5 inches.
Notes:
¹ Country-specific restrictions may apply as specified in the International Mail Manual.

2205.3 Minimum Volume Requirements

| Minimum volume requirements
Global Express Guaranteed | None.
Express Mail International | None.

2205.4 Price Categories

The following price categories are available for the product specified in this section:

Global Express Guaranteed

• Price Groups 1-8

• Online Incentives

Available for customers who prepare and pay for Global Express Guaranteed shipments online at usps.com or by using an authorized PC Postage vendor [or qualifying customers who pay postage using by using information-based indicia (IBI) postage meters.] To be eligible for discounts for purchasing Global Express Guaranteed online, customers must register via the Global Express Guaranteed Web site at usps.com. The discount applies only to the postage portion of Global Express Guaranteed rates.

Express Mail International

• Flat-Rate Envelope

○ Canada and Mexico

○ All Other Countries

• Retail

○ Price Groups 1-9[10]

• Online Incentives

Available for customers who prepare and pay for Express Mail International shipments online at usps.com or by using an authorized PC Postage vendor [or qualifying customers who pay postage by using information-based indicia (IBI) postage meters.] The discount applies only to the postage portion of Express Mail International rates.

• Permit Imprint Incentives

Available for customers who pay for postage by permit imprint and use approved software for mail preparation and Customs-related functions. The discount applies only to the postage portion of the Express Mail international prices.

• Express Mail Corporate Account Incentives

Available for customers who pay for postage through an Express Mail corporate account (EMCA) or through the federal agency payment system and use approved software for mail preparation and Customs-related functions. The discounts apply only to the postage portion of Express Mail International prices.

2205.5 Optional Features

The following additional postal services may be available in conjunction with the product specified in this section:

• Pickup On Demand

• International Ancillary Services (2250)

○ International Return Receipt (2250.3)

○ International Insurance (2250.5)

2205.6 Prices

Global Express Guaranteed

The price for Global Express Guaranteed service is based on the actual weight or the dimensional weight of the item, whichever is greater except for Postal Service-supplied Global Express Guaranteed envelopes where the postage is based on the actual weight. See the International Mail Manual for the calculation of dimensional weight.

Global Express Guaranteed:

Weight not over (lb.) | Price groups: 1 | Price groups: 2 | Price groups: 3 | Price groups: 4 | Price groups: 5 | Price groups: 6 | Price groups: 7 | Price groups: 8
0.5 | $31.95 | $32.95 | $41.95 | $89.95 | $41.95 | $43.95 | $41.95 | $60.95
1 | 50.00 | 54.00 | 59.00 | 106.00 | 67.00 | 68.00 | 54.00 | 76.00
2 | 54.75 | 61.25 | 68.25 | 124.00 | 75.50 | 77.50 | 62.00 | 94.50
3 | 59.50 | 68.50 | 77.50 | 142.00 | 84.00 | 87.00 | 70.00 | 113.00
4 | 64.25 | 75.75 | 86.75 | 160.00 | 92.50 | 96.50 | 78.00 | 131.50
5 | 69.00 | 83.00 | 96.00 | 178.00 | 101.00 | 106.00 | 86.00 | 150.00
6 | 72.75 | 90.25 | 105.25 | 196.00 | 109.50 | 115.50 | 94.00 | 168.50
7 | 76.50 | 97.50 | 114.50 | 214.00 | 118.00 | 125.00 | 102.00 | 187.00
8 | 80.25 | 104.75 | 123.75 | 232.00 | 126.50 | 134.50 | 110.00 | 205.50
9 | 84.00 | 112.00 | 133.00 | 250.00 | 135.00 | 144.00 | 118.00 | 224.00
10 | 87.75 | 119.25 | 142.25 | 268.00 | 143.50 | 153.50 | 126.00 | 242.50
11 | 91.50 | 123.50 | 147.50 | 282.00 | 150.00 | 162.00 | 132.00 | 255.00
12 | 95.25 | 127.75 | 152.75 | 296.00 | 156.50 | 170.50 | 138.00 | 267.50
13 | 99.00 | 132.00 | 158.00 | 310.00 | 163.00 | 179.00 | 144.00 | 280.00
14 | 102.75 | 136.25 | 163.25 | 324.00 | 169.50 | 187.50 | 150.00 | 292.50
15 | 106.50 | 140.50 | 168.50 | 338.00 | 176.00 | 196.00 | 156.00 | 305.00
16 | 110.25 | 144.75 | 173.75 | 352.00 | 182.50 | 204.50 | 162.00 | 317.50
17 | 114.00 | 149.00 | 179.00 | 366.00 | 189.00 | 213.00 | 168.00 | 330.00
18 | 117.75 | 153.25 | 184.25 | 380.00 | 195.50 | 221.50 | 174.00 | 342.50
19 | 121.50 | 157.50 | 189.50 | 394.00 | 202.00 | 230.00 | 180.00 | 355.00
20 | 125.25 | 161.75 | 194.75 | 408.00 | 208.50 | 238.50 | 186.00 | 367.50
21 | 129.00 | 166.00 | 200.00 | 422.00 | 215.00 | 247.00 | 192.00 | 380.00
22 | 132.75 | 170.25 | 205.25 | 436.00 | 221.50 | 255.50 | 198.00 | 392.50
23 | 136.50 | 174.50 | 210.50 | 450.00 | 228.00 | 263.00 | 204.00 | 405.00
24 | 140.25 | 178.75 | 215.75 | 464.00 | 234.50 | 270.50 | 210.00 | 417.50
25 | 144.00 | 183.00 | 221.00 | 478.00 | 241.00 | 278.00 | 216.00 | 430.00
26 | 147.75 | 186.50 | 226.25 | 492.00 | 247.50 | 285.50 | 222.00 | 442.50
27 | 151.50 | 190.00 | 231.50 | 506.00 | 254.00 | 293.00 | 228.00 | 455.00
28 | 155.25 | 193.50 | 236.75 | 520.00 | 260.50 | 300.50 | 234.00 | 467.50
29 | 159.00 | 197.00 | 242.00 | 534.00 | 267.00 | 308.00 | 240.00 | 480.00
30 | 162.75 | 200.50 | 247.25 | 548.00 | 273.50 | 315.50 | 246.00 | 492.50
31 | 166.50 | 204.00 | 252.50 | 562.00 | 280.00 | 323.00 | 252.00 | 505.00
32 | 170.25 | 207.50 | 257.75 | 576.00 | 286.50 | 330.50 | 258.00 | 517.50
33 | 174.00 | 211.00 | 263.00 | 590.00 | 293.00 | 338.00 | 264.00 | 530.00
34 | 177.75 | 214.50 | 268.25 | 604.00 | 299.50 | 345.50 | 270.00 | 542.50
35 | 181.50 | 218.00 | 273.50 | 618.00 | 306.00 | 353.00 | 276.00 | 555.00
36 | 185.25 | 221.50 | 278.75 | 632.00 | 312.50 | 360.50 | 282.00 | 567.50
37 | 189.00 | 225.00 | 284.00 | 646.00 | 319.00 | 368.00 | 288.00 | 580.00
38 | 192.75 | 228.50 | 289.25 | 660.00 | 325.50 | 375.50 | 294.00 | 592.50
39 | 196.50 | 232.00 | 294.50 | 674.00 | 332.00 | 383.00 | 300.00 | 605.00
40 | 200.25 | 235.50 | 299.75 | 688.00 | 338.50 | 390.50 | 306.00 | 617.50
41 | 204.00 | 239.00 | 305.00 | 698.00 | 345.00 | 398.00 | 312.00 | 627.00
42 | 207.75 | 242.50 | 310.25 | 708.00 | 351.50 | 405.50 | 318.00 | 636.50
43 | 211.50 | 246.00 | 315.50 | 718.00 | 358.00 | 413.00 | 324.00 | 646.00
44 | 215.25 | 249.50 | 320.75 | 728.00 | 364.50 | 420.50 | 330.00 | 655.50
45 | 219.00 | 253.00 | 326.00 | 738.00 | 371.00 | 428.00 | 336.00 | 665.00
46 | 222.75 | 256.50 | 331.25 | 748.00 | 377.50 | 435.50 | 342.00 | 674.50
47 | 225.50 | 260.00 | 336.50 | 758.00 | 384.00 | 443.00 | 348.00 | 684.00
48 | 228.25 | 263.50 | 341.75 | 768.00 | 390.50 | 450.50 | 354.00 | 693.50
49 | 231.00 | 267.00 | 347.00 | 778.00 | 397.00 | 458.00 | 360.00 | 703.00
50 | 233.75 | 270.50 | 352.25 | 788.00 | 403.50 | 465.50 | 366.00 | 712.50
51 | 236.50 | 273.25 | 357.50 | 798.00 | 410.00 | 473.00 | 372.00 | 722.00
52 | 239.25 | 276.00 | 362.75 | 808.00 | 416.50 | 480.50 | 378.00 | 731.50
53 | 242.00 | 278.75 | 368.00 | 818.00 | 423.00 | 488.00 | 384.00 | 741.00
54 | 244.75 | 281.50 | 373.25 | 828.00 | 429.50 | 495.50 | 390.00 | 750.50
55 | 247.50 | 284.25 | 378.50 | 838.00 | 436.00 | 503.00 | 396.00 | 760.00
56 | 250.25 | 287.00 | 383.75 | 848.00 | 442.50 | 510.50 | 402.00 | 769.50
57 | 253.00 | 289.75 | 389.00 | 858.00 | 449.00 | 518.00 | 408.00 | 779.00
58 | 255.75 | 292.50 | 394.25 | 868.00 | 455.50 | 525.50 | 414.00 | 788.50
59 | 258.50 | 295.25 | 399.50 | 878.00 | 462.00 | 533.00 | 420.00 | 798.00
60 | 261.25 | 298.00 | 404.75 | 888.00 | 468.50 | 540.50 | 426.00 | 807.50
61 | 264.00 | 300.75 | 410.00 | 898.00 | 475.00 | 548.00 | 432.00 | 817.00
62 | 266.75 | 303.50 | 415.25 | 908.00 | 480.50 | 555.50 | 438.00 | 826.50
63 | 269.50 | 306.25 | 420.50 | 918.00 | 486.00 | 563.00 | 444.00 | 836.00
64 | 272.25 | 309.00 | 425.75 | 928.00 | 491.50 | 570.50 | 450.00 | 845.50
65 | 275.00 | 311.75 | 431.00 | 938.00 | 497.00 | 578.00 | 456.00 | 855.00
66 | 277.75 | 314.50 | 436.25 | 948.00 | 502.50 | 585.50 | 462.00 | 864.50
67 | 280.50 | 317.25 | 441.50 | 958.00 | 508.00 | 593.00 | 468.00 | 874.00
68 | 283.25 | 320.00 | 446.75 | 968.00 | 513.50 | 600.50 | 474.00 | 883.50
69 | 286.00 | 322.75 | 452.00 | 978.00 | 519.00 | 608.00 | 480.00 | 893.00
70 | 288.75 | 325.50 | 457.25 | 988.00 | 524.50 | 615.50 | 486.00 | 902.50

Express Mail International

Express Mail International: Flat-Rate Envelope

Maximum weight (ounces) | Country price group: 1 ($) | Country price group: 2 ($) | Country price group: 3 ($) | Country price group: 4 ($) | Country price group: 5 ($) | Country price group: 6 ($) | Country price group: 7 ($) | Country price group: 8 ($) | Country price group: 9 ($) | Country price group: 10 ($)
Flat-Rate Envelope | 25.95 | 25.95 | 27.95 | 27.95 | 27.95 | 27.95 | 27.95 | 27.95 | 27.95 | 27.95

Express Mail International: Retail

Weight not over (lb.) | Price groups: 1 | Price groups: 2 | Price groups: 3 | Price groups: 4 | Price groups: 5 | Price groups: 6 | Price groups: 7 | Price groups: 8 | Price groups: 9 | Price groups: 10
0.5 | $25.95 | $25.95 | $27.95 | $27.95 | $27.95 | $27.95 | $27.95 | $27.95 | $27.95 | $27.95
1 | 30.00 | 29.50 | 31.50 | 31.50 | 32.50 | 31.50 | 34.00 | 33.50 | 32.50 | 32.50
2 | 33.50 | 33.25 | 36.25 | 35.75 | 37.00 | 35.75 | 38.75 | 38.50 | 37.00 | 37.75
3 | 37.00 | 37.00 | 41.00 | 40.00 | 41.50 | 40.00 | 43.50 | 43.50 | 41.50 | 43.00
4 | 40.50 | 40.75 | 45.75 | 44.25 | 46.00 | 44.25 | 48.25 | 48.50 | 46.00 | 48.25
5 | 44.00 | 44.50 | 50.50 | 48.50 | 50.50 | 48.50 | 53.00 | 53.50 | 50.50 | 54.00
6 | 47.25 | 48.25 | 55.25 | 52.25 | 54.75 | 53.75 | 58.25 | 58.50 | 55.75 | 59.75
7 | 50.50 | 52.00 | 60.00 | 56.00 | 59.00 | 59.00 | 63.50 | 63.50 | 61.00 | 65.50
8 | 53.75 | 55.75 | 64.75 | 59.75 | 63.25 | 64.25 | 68.75 | 68.50 | 66.25 | 71.25
9 | 57.00 | 59.50 | 69.50 | 63.50 | 67.50 | 69.50 | 74.00 | 73.50 | 71.50 | 77.00
10 | 60.25 | 63.25 | 74.25 | 67.25 | 71.75 | 74.75 | 79.25 | 78.50 | 76.75 | 82.75
11 | 63.75 | 66.00 | 79.50 | 71.50 | 76.00 | 80.50 | 85.00 | 84.25 | 82.00 | 88.50
12 | 67.25 | 68.75 | 84.75 | 75.75 | 80.25 | 86.25 | 90.75 | 90.00 | 87.25 | 94.25
13 | 70.75 | 71.50 | 90.00 | 80.00 | 84.50 | 92.00 | 96.50 | 95.75 | 92.50 | 100.00
14 | 74.25 | 74.25 | 95.25 | 84.25 | 88.75 | 97.75 | 102.25 | 101.50 | 97.75 | 105.75
15 | 77.75 | 77.00 | 100.50 | 88.50 | 93.00 | 103.50 | 108.00 | 107.25 | 103.00 | 111.50
16 | 81.25 | 79.75 | 106.25 | 92.75 | 97.25 | 109.25 | 113.75 | 113.00 | 108.25 | 117.75
17 | 84.75 | 82.50 | 112.00 | 97.00 | 101.50 | 115.00 | 119.50 | 118.75 | 113.50 | 124.00
18 | 88.25 | 85.25 | 117.75 | 101.25 | 105.75 | 120.75 | 125.25 | 124.50 | 118.75 | 130.25
19 | 91.75 | 88.00 | 123.50 | 105.50 | 110.00 | 126.50 | 131.00 | 130.25 | 124.00 | 136.50
20 | 95.25 | 90.75 | 129.25 | 109.75 | 114.25 | 132.25 | 136.75 | 136.00 | 129.25 | 142.75
21 | 98.75 | 93.50 | 135.00 | 114.00 | 118.50 | 138.00 | 142.50 | 141.75 | 134.50 | 149.00
22 | 102.25 | 96.25 | 140.75 | 118.25 | 122.75 | 143.75 | 148.25 | 147.50 | 139.75 | 155.25
23 | 105.75 | 99.00 | 146.50 | 122.50 | 127.00 | 149.50 | 154.00 | 153.25 | 145.00 | 161.50
24 | 109.25 | 101.75 | 152.25 | 126.75 | 131.25 | 155.25 | 159.75 | 159.00 | 150.25 | 167.75
25 | 112.75 | 104.50 | 158.00 | 131.00 | 135.50 | 161.00 | 165.50 | 164.75 | 155.50 | 174.00
26 | 116.25 | 107.25 | 163.75 | 135.25 | 139.75 | 166.75 | 171.25 | 170.50 | 160.75 | 180.25
27 | 119.75 | 110.00 | 169.50 | 139.50 | 144.00 | 172.50 | 177.00 | 176.25 | 166.00 | 186.50
28 | 123.25 | 112.75 | 175.25 | 143.75 | 148.25 | 178.25 | 182.75 | 182.00 | 171.25 | 192.75
29 | 126.75 | 115.50 | 181.00 | 148.00 | 152.50 | 184.00 | 188.50 | 187.75 | 176.50 | 199.00
30 | 130.25 | 118.25 | 186.75 | 152.25 | 156.75 | 189.75 | 194.25 | 193.50 | 181.75 | 205.25
31 | 133.75 | 121.00 | 192.50 | 156.50 | 161.00 | 195.50 | 200.00 | 199.25 | 187.00 | 211.50
32 | 137.25 | 123.75 | 198.25 | 160.75 | 165.25 | 201.25 | 205.75 | 205.00 | 192.25 | 217.75
33 | 140.75 | 126.50 | 204.00 | 165.00 | 169.50 | 207.00 | 211.50 | 210.75 | 197.50 | 224.00
34 | 144.25 | 129.25 | 209.75 | 169.25 | 173.75 | 212.75 | 217.25 | 216.50 | 202.75 | 230.25
35 | 147.75 | 132.00 | 215.50 | 173.50 | 178.00 | 218.50 | 223.00 | 222.25 | 208.00 | 236.50
36 | 151.25 | 134.75 | 221.25 | 177.75 | 182.25 | 224.25 | 228.75 | 228.00 | 213.25 | 242.75
37 | 154.75 | 137.50 | 227.00 | 182.00 | 186.50 | 230.00 | 234.50 | 233.75 | 218.50 | 249.00
38 | 158.25 | 140.25 | 232.75 | 186.25 | 190.75 | 235.75 | 240.25 | 239.50 | 223.75 | 255.25
39 | 161.75 | 143.00 | 238.50 | 190.50 | 195.00 | 241.50 | 246.00 | 245.25 | 229.00 | 261.50
40 | 165.25 | 145.75 | 244.25 | 194.75 | 199.25 | 247.25 | 251.75 | 251.00 | 234.25 | 267.75
41 | 168.75 | 148.50 | 250.00 | 199.00 | 203.50 | 252.50 | 257.50 | 256.75 | 239.50 | 274.00
42 | 172.25 | 151.25 | 255.75 | 203.25 | 207.75 | 257.75 | 263.25 | 262.50 | 244.75 | 280.25
43 | 175.75 | 154.00 | 261.50 | 207.50 | 212.00 | 263.00 | 269.00 | 268.25 | 250.00 | 286.50
44 | 179.25 | 156.75 | 267.25 | 211.75 | 216.25 | 268.25 | 274.75 | 274.00 | 255.25 | 292.75
45 | 182.75 |  | 273.00 | 216.00 | 220.50 | 273.50 | 280.50 | 279.75 | 260.50 | 299.00
46 | 186.25 |  | 278.75 | 220.25 | 224.75 | 278.75 | 286.25 | 285.50 | 265.75 | 305.25
47 | 189.75 |  | 284.50 | 224.50 | 229.00 | 284.00 | 292.00 | 291.25 | 271.00 | 311.50
48 | 193.25 |  | 290.25 | 228.75 | 233.25 | 289.25 | 297.75 | 297.00 | 276.25 | 317.75
49 | 196.75 |  | 296.00 | 233.00 | 237.50 | 294.50 | 303.50 | 302.75 | 281.50 | 324.00
50 | 200.25 |  | 301.75 | 237.25 | 241.75 | 299.75 | 309.25 | 308.50 | 286.75 | 330.25
51 | 203.75 |  | 307.50 | 241.50 | 246.00 | 305.00 | 315.00 | 314.25 | 292.00 | 336.50
52 | 207.25 |  | 313.25 | 245.75 | 250.25 | 310.25 | 320.75 | 320.00 | 297.25 | 342.75
53 | 210.75 |  | 319.00 | 250.00 | 254.50 | 315.50 | 326.50 | 325.75 | 302.50 | 349.00
54 | 214.25 |  | 324.75 | 254.25 | 258.75 | 320.75 | 332.25 | 331.50 | 307.75 | 355.25
55 | 217.75 |  | 330.50 | 258.50 | 263.00 | 326.00 | 338.00 | 337.25 | 313.00 | 361.50
56 | 221.25 |  | 336.25 | 262.75 | 267.25 | 331.25 | 343.75 | 343.00 | 318.25 | 367.75
57 | 224.75 |  | 342.00 | 267.00 | 271.50 | 336.50 | 349.50 | 348.75 | 323.50 | 374.00
58 | 228.25 |  | 347.75 | 271.25 | 275.75 | 341.75 | 355.25 | 354.50 | 328.75 | 380.25
59 | 231.75 |  | 353.50 | 275.50 | 280.00 | 347.00 | 361.00 | 360.25 | 334.00 | 386.50
60 | 235.25 |  | 359.25 | 279.75 | 284.25 | 352.25 | 366.75 | 366.00 | 339.25 | 392.75
61 | 238.75 |  | 365.00 | 284.00 | 288.50 | 357.50 | 372.50 | 371.75 | 344.50 | 399.00
62 | 242.25 |  | 370.75 | 288.25 | 292.75 | 362.75 | 378.25 | 377.50 | 349.75 | 405.25
63 | 245.75 |  | 376.50 | 292.50 | 297.00 | 368.00 | 384.00 | 383.25 | 355.00 | 411.50
64 | 249.25 |  | 382.25 | 296.75 | 301.25 | 373.25 | 389.75 | 389.00 | 360.25 | 417.75
65 | 252.75 |  | 388.00 | 301.00 | 305.50 | 378.50 | 395.50 | 394.75 | 365.50 | 424.00
66 | 256.25 |  | 393.75 | 305.25 | 309.75 | 383.75 | 401.25 | 400.50 | 370.75 | 430.25
67 |  | 399.50 | 309.50 | 314.00 | 389.00 | 407.00 | 406.25 | 376.00 |  |
68 |  | 405.25 | 313.75 | 318.25 | 394.25 | 412.75 | 412.00 | 381.25 |  |
69 |  | 411.00 | 318.00 | 322.50 | 399.50 | 418.50 | 417.75 | 386.50 |  |
70 |  | 416.75 | 322.25 | 326.75 | 404.75 | 424.25 | 423.50 | 391.75 |

Pickup On Demand

Add $14.75 for each Pickup On Demand stop.

Global Express Guaranteed Online Price Incentives

A discount of 10 percent will be applied to Global Express Guaranteed prices.

Express Mail International Online Price Incentives

A discount of 8 percent will be applied to Express Mail International prices.

Express Mail International Permit Imprint Incentives

A discount of 8 percent will be applied to Express Mail International prices.

Express Mail International Corporate Account Incentives

A discount of 8 percent will be applied to Express Mail International prices. An annualized minimum volume of 1,000 pieces or an annualized minimum postage of $20,000.00 will result in a 10 percent discount, and an annualized minimum volume of 3,000 pieces or an annualized minimum postage of $60,000.00 will result in a 12 percent discount.

2210 Inbound Express Mail International (EMS)

2210.1 Description

a. Inbound Express Mail International is a reliable, high-speed service, available from most countries.

b. Inbound Express Mail International may contain matter with personal information, partially or wholly hand-written or typewritten matter, or bills or statements of account.

c. Inbound Express Mail International is sealed against inspection.

2210.2 Size and Weight Limitations

| Length | Height | Thickness | Weight
Minimum | None | None | None | See Note 1.
Maximum | 36 inches.
| 108 inches in combined length and girth.
Notes
¹ Country-specific restrictions may apply as specified by the originating country.

2210.3 Minimum Volume Requirements

| Minimum volume requirements
Inbound Express Mail International | None.

2210.4 Price Categories

The following price categories are available for the product specified in this section:

• Bilateral/Multilateral Agreements

○ Bilateral Express Mail Service (EMS)

The Postal Service has standard EMS bilateral agreements with a large number of countries for service standards, tracking, and tracing concerning delivery of both inbound and outbound international express mail items. Each destination administration can set its charge once a year by notifying their partners either directly no later than August 1 or via the UPU International Bureau no later than August 31 of the year prior to the effective date.

○ EMS Cooperative Pay for Performance

The EMS Cooperative Pay-for-Performance plan has been implemented with certain countries. The EMS Pay-for-Performance Plan links payment for delivery of EMS items to the quality of service performed. Charges are not covered; rather, total payments between countries account for service quality.

○ Kahala Posts Group

The Postal Service entered into an agreement with certain postal administrations to work together to improve international postal services, particularly EMS, packages and logistic services under the name Kahala Posts Group. This agreement does not cover charges. Inbound Express Mail International With Postage Refund Guarantee, provided under the Group's Strategic Services Agreement, is comparable to regular Express Mail International with the exception that postage refunds may be provided if date-certain delivery is not made. This service is available to and from a limited number of countries as specified in the International Mail Manual.

○ E Parcel Group

This agreement provides for service standards, tracking, tracing, and charges for delivery of outbound and inbound air parcels and EMS destined to and originating in certain European countries.

○ China Post

The Postal Service has a bilateral agreement with China Post which sets inbound and outbound charges for EMS and discusses improved service opportunities.

2210.5 Optional Features

The following additional postal services may be available in conjunction with the product specified in this section:

• International Ancillary Services (2250)

○ Inbound International Return Receipt (2250.3)

○ Customs Clearance and Delivery Fee (2250.6)

2210.6 Prices

Imbalance charges are set by bilateral and multilateral agreements. Unless covered by a negotiated agreement, indemnity is paid by the country of origin to the sender and it is not reciprocal.

2215 Outbound Priority Mail International

2215.1 Description

a. Outbound Priority Mail International may be mailed as a Priority Mail International Flat-Rate Envelope, a Priority Mail International Flat-Rate Box, or a Priority Mail International parcel.

b. All items that may be sent as First-Class Mail International, including written correspondence having the nature of current and personal correspondence, may be sent in a Priority Mail International Flat-Rate Envelope [or Small Flat-Rate Box].

c. Only the Priority Mail International Flat-Rate Envelope [and Small Flat-Rate Box are] is sealed against postal inspection and shall not be opened except as authorized by law.

d. Priority Mail International [Large and Regular] Flat-Rate Boxes and the Priority Mail International parcel services are designed for the carriage of outbound international postal parcels. Written correspondence having the nature of current and personal correspondence is not permitted. Indemnity for ordinary, uninsured parcels is included in the price of postage based on the weight of the item. The indemnity amount is determined by Article RC 148.2.1 of the Parcel Post Regulations.

e. Discounts for online preparation and payment, for use of an authorized PC postage vendor [or for qualifying customers who pay postage using information-based indicia (IBI) postage meters] or for [use of] permit imprint accounts may apply.

2215.3 Minimum Volume Requirements

| Minimum volume requirements
Outbound Priority Mail International | None.

2215.4 Price Categories

The following price categories are available for the product specified in this section:

• Priority Mail International Flat-Rate Envelope

○ Canada and Mexico

○ All other countries

• Priority Mail International Flat-Rate Boxes

○ Canada and Mexico

○ All other countries

• Priority Mail International Parcels

Subject to the provisions of the Universal Postal Union Convention, Ordinary, uninsured Priority Mail International Parcels include indemnity coverage in the postage prices. Indemnity is limited to the lesser of the actual value of the contents or the maximum indemnity based on weight.

○ Price Groups 19 [10]

• Online Incentives

Available to customers who conduct Priority Mail International transactions online at usps.com or through an authorized PC Postage vendor [or for qualifying customers who pay postage using information-based indicia (IBI) postage meters]. The discount applies only to the postage portion of Priority Mail International rates.

• Permit Imprint Incentives

Available to customers who pay for postage by permit imprint and use approved software for mail preparation and Customs-related functions.

2215.5 Optional Features

The following additional postal services may be available in conjunction with the product specified in this section:

• Pickup On Demand

• International Ancillary Services (2250)

○ International Certificate of Mailing (2250.1)

○ International Registered Mail (2250.2)

○ International Return Receipt (2250.3)

○ International Restricted Delivery (2250.4)

○ International Insurance (2250.5)

2215.7 Prices

Priority Mail International Flat-Rate Envelope

Flat-Rate Envelopes are provided by the Postal Service.

| Country price group: 1 ($) | Country price group: 2 ($) | Country price group: 3 ($) | Country price group: 4 ($) | Country price group: 5 ($) | Country price group: 6 ($) | Country price group: 7 ($) | Country price group: 8 ($) | Country price group: 9 ($) | Country price group: 10 ($)
Flat-Rate Envelope | 10.95 | 10.95 | 12.95 | 12.95 | 12.95 | 12.95 | 12.95 | 12.95 | 12.95 | 12.95

Priority Mail International Flat-Rate Boxes

Flat-Rate Boxes are provided by the Postal Service.

| Country price group: 1 ($) | Country price group: 2 ($) | Country price group: 3 ($) | Country price group: 4 ($) | Country price group: 5 ($) | Country price group: 6 ($) | Country price group: 7 ($) | Country price group: 8 ($) | Country price group: 9 ($) | Country price group: 10 ($)
Small Flat-Rate Box | 10.95 | 10.95 | 12.95 | 12.95 | 12.95 | 12.95 | 12.95 | 12.95 | 12.95 | 12.95
Regular Flat-Rate Box | 25.95 | 25.95 | 41.95 | 41.95 | 41.95 | 41.95 | 41.95 | 41.95 | 41.95 | 41.95
Large Flat-Rate Box | 32.95 | 32.95 | 53.95 | 53.95 | 53.95 | 53.95 | 53.95 | 53.95 | 53.95 | 53.95

Priority Mail International: l Parcels

Weight not over (lb.) | Price groups: 1 | Price groups: 2 | Price groups: 3 | Price groups: 4 | Price groups: 5 | Price groups: 6 | Price groups: 7 | Price groups: 8 | Price groups: 9 | Price groups: 10
1 | $19.00 | $19.00 | $25.00 | $23.50 | $26.50 | $25.00 | $24.00 | $23.00 | $23.00 | $26.50
2 | 20.75 | 22.75 | 29.25 | 27.25 | 29.75 | 29.25 | 28.50 | 27.25 | 26.75 | 31.35
3 | 22.50 | 26.50 | 33.50 | 31.00 | 33.00 | 33.50 | 33.00 | 31.50 | 30.50 | 36.20
4 | 24.25 | 30.25 | 37.75 | 34.75 | 36.25 | 37.75 | 37.50 | 35.75 | 34.25 | 41.05
5 | 26.00 | 34.00 | 42.00 | 38.50 | 39.50 | 42.00 | 42.00 | 40.00 | 38.00 | 45.90
6 | 27.75 | 36.75 | 45.75 | 42.25 | 42.50 | 47.25 | 46.50 | 44.25 | 40.75 | 51.05
7 | 29.50 | 39.50 | 49.50 | 46.00 | 45.50 | 52.50 | 51.00 | 48.50 | 43.50 | 56.20
8 | 31.25 | 42.25 | 53.25 | 49.75 | 48.50 | 57.75 | 55.50 | 52.75 | 46.25 | 61.35
9 | 33.00 | 45.00 | 57.00 | 53.50 | 51.50 | 63.00 | 60.00 | 57.00 | 49.00 | 66.50
10 | 34.75 | 47.75 | 60.75 | 57.25 | 54.50 | 68.25 | 64.50 | 61.25 | 51.75 | 71.65
11 | 36.50 | 50.00 | 64.50 | 61.00 | 57.50 | 73.50 | 69.50 | 66.00 | 55.50 | 76.80
12 | 38.25 | 52.25 | 68.25 | 64.75 | 60.50 | 78.75 | 74.50 | 70.75 | 59.25 | 81.95
13 | 40.00 | 54.50 | 72.00 | 68.50 | 63.50 | 84.00 | 79.50 | 75.50 | 63.00 | 87.10
14 | 41.75 | 56.75 | 75.75 | 72.25 | 66.50 | 89.25 | 84.50 | 80.25 | 66.75 | 92.25
15 | 43.50 | 59.00 | 79.50 | 76.00 | 69.50 | 94.50 | 89.50 | 85.00 | 70.50 | 97.40
16 | 45.25 | 61.25 | 83.25 | 79.75 | 72.50 | 99.75 | 94.50 | 89.75 | 74.25 | 102.55
17 | 47.00 | 63.50 | 87.00 | 83.50 | 75.50 | 105.00 | 99.50 | 94.50 | 78.00 | 107.70
18 | 48.75 | 65.75 | 90.75 | 87.25 | 78.50 | 110.25 | 104.50 | 99.25 | 81.75 | 112.85
19 | 50.50 | 68.00 | 94.50 | 91.00 | 81.50 | 115.50 | 109.50 | 104.00 | 85.50 | 118.00
20 | 52.25 | 70.25 | 98.25 | 94.75 | 84.50 | 120.75 | 114.50 | 108.75 | 89.25 | 123.15
21 | 54.00 | 72.50 | 102.00 | 98.50 | 87.50 | 126.00 | 119.50 | 113.50 | 93.00 | 128.30
22 | 55.75 | 74.75 | 105.75 | 102.25 | 90.50 | 131.25 | 124.50 | 118.25 | 96.75 | 133.45
23 | 57.50 | 77.00 | 109.50 | 106.00 | 93.50 | 136.50 | 129.50 | 123.00 | 100.50 | 138.60
24 | 59.25 | 79.25 | 113.25 | 109.75 | 96.50 | 141.75 | 134.50 | 127.75 | 104.25 | 143.75
25 | 61.00 | 81.50 | 117.00 | 113.50 | 99.50 | 147.00 | 139.50 | 132.50 | 108.00 | 148.90
26 | 62.75 | 83.75 | 120.75 | 117.25 | 102.50 | 152.25 | 144.50 | 137.25 | 111.75 | 154.05
27 | 64.50 | 86.00 | 124.50 | 121.00 | 105.50 | 157.50 | 149.50 | 142.00 | 115.50 | 159.20
28 | 66.25 | 88.25 | 128.25 | 124.75 | 108.50 | 162.75 | 154.50 | 146.75 | 119.25 | 164.35
29 | 68.00 | 90.50 | 132.00 | 128.50 | 111.50 | 168.00 | 159.50 | 151.50 | 123.00 | 169.50
30 | 69.75 | 92.75 | 135.75 | 132.25 | 114.50 | 173.25 | 164.50 | 156.25 | 126.75 | 174.65
31 | 71.50 | 95.00 | 139.50 | 136.00 | 117.50 | 178.50 | 169.50 | 161.00 | 130.50 | 179.80
32 | 73.25 | 97.25 | 143.25 | 139.75 | 120.50 | 183.75 | 174.50 | 165.75 | 134.25 | 184.95
33 | 75.00 | 99.50 | 147.00 | 143.50 | 123.50 | 189.00 | 179.50 | 170.50 | 138.00 | 190.10
34 | 76.75 | 101.75 | 150.75 | 147.25 | 126.50 | 194.25 | 184.50 | 175.25 | 141.75 | 195.25
35 | 78.50 | 104.00 | 154.50 | 151.00 | 129.50 | 199.50 | 189.50 | 180.00 | 145.50 | 200.40
36 | 80.25 | 106.25 | 158.25 | 154.75 | 132.50 | 204.75 | 194.50 | 184.75 | 149.25 | 205.55
37 | 82.00 | 108.50 | 162.00 | 158.50 | 135.50 | 210.00 | 199.50 | 189.50 | 153.00 | 210.70
38 | 83.75 | 110.75 | 165.75 | 162.25 | 138.50 | 215.25 | 204.50 | 194.25 | 156.75 | 215.85
39 | 85.50 | 113.00 | 169.50 | 166.00 | 141.50 | 220.50 | 209.50 | 199.00 | 160.50 | 221.00
40 | 87.25 | 115.25 | 173.25 | 169.75 | 144.50 | 225.75 | 214.50 | 203.75 | 164.25 | 226.15
41 | 89.00 | 117.50 | 177.00 | 173.50 | 147.50 | 231.00 | 219.50 | 208.50 | 168.00 | 231.30
42 | 90.75 | 119.75 | 180.75 | 177.25 | 150.50 | 236.25 | 224.50 | 213.25 | 171.75 | 236.45
43 | 92.50 | 122.00 | 184.50 | 181.00 | 153.50 | 241.50 | 229.50 | 218.00 | 175.50 | 241.60
44 | 94.25 | 124.25 | 188.25 | 184.75 | 156.50 | 246.75 | 234.50 | 222.75 | 179.25 | 246.75
45 | 96.00 |  | 192.00 | 188.50 | 159.50 | 252.00 | 239.50 | 227.50 | 183.00 | 251.90
46 | 97.75 |  | 195.75 | 192.25 | 162.50 | 257.25 | 244.50 | 232.25 | 186.75 | 257.05
47 | 99.50 |  | 199.50 | 196.00 | 165.50 | 262.50 | 249.50 | 237.00 | 190.50 | 262.20
48 | 101.25 |  | 203.25 | 199.75 | 168.50 | 267.75 | 254.50 | 241.75 | 194.25 | 267.35
49 | 103.00 |  | 207.00 | 203.50 | 171.50 | 273.00 | 259.50 | 246.50 | 198.00 | 272.50
50 | 104.75 |  | 210.75 | 207.25 | 174.50 | 278.25 | 264.50 | 251.25 | 201.75 | 277.65
51 | 106.50 |  | 214.50 | 211.00 | 177.50 | 283.50 | 269.50 | 256.00 | 205.50 | 282.80
52 | 108.25 |  | 218.25 | 214.75 | 180.50 | 288.75 | 274.50 | 260.75 | 209.25 | 287.95
53 | 110.00 |  | 222.00 | 218.50 | 183.50 | 294.00 | 279.50 | 265.50 | 213.00 | 293.10
54 | 111.75 |  | 225.75 | 222.25 | 186.50 | 299.25 | 284.50 | 270.25 | 216.75 | 298.25
55 | 113.50 |  | 229.50 | 226.00 | 189.50 | 304.50 | 289.50 | 275.00 | 220.50 | 303.40
56 | 115.25 |  | 233.25 | 229.75 | 192.50 | 309.75 | 294.50 | 279.75 | 224.25 | 308.55
57 | 117.00 |  | 237.00 | 233.50 | 195.50 | 315.00 | 299.50 | 284.50 | 228.00 | 313.70
58 | 118.75 |  | 240.75 | 237.25 | 198.50 | 320.25 | 304.50 | 289.25 | 231.75 | 318.85
59 | 120.50 |  | 244.50 | 241.00 | 201.50 | 325.50 | 309.50 | 294.00 | 235.50 | 324.00
60 | 122.25 |  | 248.25 | 244.75 | 204.50 | 330.75 | 314.50 | 298.75 | 239.25 | 329.15
61 | 124.00 |  | 252.00 | 248.50 | 207.50 | 336.00 | 319.50 | 303.50 | 243.00 | 334.30
62 | 125.75 |  | 255.75 | 252.25 | 210.50 | 341.25 | 324.50 | 308.25 | 246.75 | 339.45
63 | 127.50 |  | 259.50 | 256.00 | 213.50 | 346.50 | 329.50 | 313.00 | 250.50 | 344.60
64 | 129.25 |  | 263.25 | 259.75 | 216.50 | 351.75 | 334.50 | 317.75 | 254.25 | 349.75
65 | 131.00 |  | 267.00 | 263.50 | 219.50 | 357.00 | 339.50 | 322.50 | 258.00 | 354.90
66 | 132.75 |  | 270.75 | 267.25 | 222.50 | 362.25 | 344.50 | 327.25 | 261.75 | 360.05
67 |  |  | 274.50 | 271.00 | 225.50 | 367.50 | 349.50 | 332.00 | 265.50 |
68 |  |  | 278.25 | 274.75 | 228.50 | 372.75 | 354.50 | 336.75 | 269.25 |
69 |  |  | 282.00 | 278.50 | 231.50 | 378.00 | 359.50 | 341.50 | 273.00 |
70 |  |  | 285.75 | 282.25 | 234.50 | 383.25 | 364.50 | 346.25 | 276.75 |

Pickup On Demand

Add $14.75 for each Pickup On Demand stop.

Online Incentives

A discount of 5 percent will be applied to Priority Mail International prices.

Permit Imprint Incentives

A discount of 5 percent will be applied to Priority Mail International prices.

2220 Inbound Air Parcel Post

2220.1 Description

a. Inbound International Air Parcel Post service is designed for the carriage of postal parcels.

b. Written correspondence having the nature of current and personal correspondence is not permitted in Inbound International Air Parcel Post.

c. Inbound International Air Parcel Post service is not sealed against inspection.

d. Single-Piece inbound air parcel post is subject to the provisions of the Universal Postal Union Convention and the Parcel Post Regulations. Inbound air parcel post may also be covered under bilateral or multilateral agreements.

e. Unless otherwise specified, reciprocal indemnity based on the weight of the parcel is included. Limits of indemnity based on weight correspond to the outbound limitations for Priority Mail International specified in the International Mail Manual.

2220.2 Size and Weight Limitations

| Length | Height | Thickness | Weight
Minimum | 5.5 inches | None | 3.5 inch | None.
Maximum | 42 inches |  |  | 70 pounds.
| 79 inches in combined length and girth.
| For circular parcels: a length plus diameter of 64 inches.

2220.3 Minimum volume requirements

| Minimum volume requirements
Inbound Air Parcel Post | None.

2220.4 Price Categories

The following price categories are available for the product specified in this section:

• UPU—Inward Land Rates

Payment for processing inbound single-piece air parcel post is made under UPU inward land rates. See Universal Postal Union International Bureau Circulars.

• Bilateral/Multilateral Agreements

○ E Parcel Group

This agreement provides for service standards, tracking, tracing, and charges for delivery of outbound and inbound air parcels and EMS destined to and originating in certain European countries.

○ Canada Post Bilateral Agreement

This agreement governs the exchange of air and surface parcel post mail between the U.S. and Canada. In particular, the agreement provides charges for delivery of outbound and inbound air and surface parcel post.

2220.5 Optional Features

The following additional postal services may be available in conjunction with the product specified in this section:

• Inbound International Ancillary Services (2250)

○ Inbound International Return Receipt (2250.3)

○ Inbound International Insurance (2250.5)

○ Customs Clearance and Delivery Fee (2250.6)

2220.6 Prices

Foreign postal administrations pay the Postal Service for the delivery of inbound mail. The amount paid is set by the Universal Postal Union, known as inward land rates. Prices may also be set by bilateral or multilateral agreements.

2225 International Priority Airmail (IPA)

2225.1 Description

a. International Priority Airmail is a bulk international airmail service for mailing First-Class Mail International items.

b. International Priority Airmail may include matter containing personal information, partially or wholly hand-written or typewritten matter, or bills or statements of account.

c. Priority Mail International items, either ordinary or insured, may not be mailed using International Priority Airmail.

d. International Priority Airmail is sealed against postal inspection and shall not be opened except as authorized by law.

e. Most prices for international postage are segmented into Price Groups with multiple destination countries represented in each Price Group. To identify what Price Group a destination country is in, refer to Country Price Group List for International Mail (4000). The number of Price Groups that exist depends on the category of mail. A particular destination country may fall into different Price Groups for different categories of mail.

2225.2 Size and Weight Limitations

Mailpiece Requirements (mailpieces contained within M-Bags are subject to the separate International Direct Sacks—M-Bag (2515) requirements)

a. Letters

| Length | Height | Thickness | Weight
Minimum | 5.5 inches | 3.5 inches | 0.007 inch | None.
Maximum | 11.5 inches | 6.125 inches | 0.25 inch | 3.5 ounces.

b. Postcards

| Length | Height | Thickness | Weight
Minimum | 5.5 inches | 3.5 inches | 0.007 inch | None.
Maximum | 6 inches | 4.25 inches | 0.016 inch | Not applicable.

c. Large Envelopes (Flats)

| Length | Height | Thickness | Weight
Minimum¹ | 11.5 inches | 6.125 inches | 0.25 inch | None.
Maximum | 15 inches | 12 inches | 0.75 inch | 4 pounds.
Notes:
¹ Only one minimum dimension must be met.

d. Packages (Small Packets)

| Length | Height | Thickness | Weight
Minimum | Large enough to accommodate postage, address, and other required elements on the address side. |  |  | None.
Maximum | 24 inches |  |  | 4 pounds.
| Length plus height plus thickness of 36 inches.

e. Rolls

| Length | Length plus twice the diameter | Weight
Minimum | 4 inches | 6.75 inches | None.
Maximum | 36 inches | 42 inches | 4 pounds.

2225.3 Minimum Volume Requirements

| Minimum volume requirements
Presort | 11 pounds of presorted mail to a single rate group.
Worldwide Nonpresort | 11 pounds in the total mailing.
M-Bag | None.

2225.4 Price Categories

The following price categories are available for the product specified in this section:

International Priority Airmail

• Presort Mail (Full Service and ISC Drop Shipment)

○ Price Groups 1-9

• Worldwide Nonpresort Mail (Full Service and ISC Drop Shipment)

○ Worldwide

International Priority Airmail M-Bag (Full Service and ISC Drop Shipment)

○ Price Groups 1-9

2225.5 Optional Features

The following additional postal services may be available in conjunction with the product specified in this section:

• International Ancillary Services (2250)

○ International Certificate of Mailing (2250.1)

2225.6 Prices

International Priority Airmail

The price is determined by adding the applicable per-piece price to the applicable per-pound price. The per-piece price applies to each mailpiece regardless of weight. The per-pound price applies to the net weight (gross weight of the sack minus the tare weight of the sack) of the mail for the specific rate group.

a. Presort Mail (Full Service and ISC Drop Shipment)

i. Per Piece

| Price group: 1 ($) | Price group: 2 ($) | Price group: 3 ($) | Price group: 4 ($) | Price group: 5 ($) | Price group: 6 ($) | Price group: 7 ($) | Price group: 8 ($) | Price group: 9 ($)
Full Service | 0.40 | 0.15 | 0.40 | 0.41 | 0.15 | 0.15 | 0.15 | 0.12 | 0.31
ISC Drop Shipment | 0.40 | 0.15 | 0.40 | 0.41 | 0.15 | 0.15 | 0.15 | 0.12 | 0.31

ii. Per Pound

| Price group: 1 ($) | Price group: 2 ($) | Price group: 3 ($) | Price group: 4 ($) | Price group: 5 ($) | Price group: 6 ($) | Price group: 7 ($) | Price group: 8 ($) | Price group: 9 ($)
Full Service | 5.44 | 6.10 | 7.50 | 7.70 | 6.50 | 5.80 | 7.50 | 8.00 | 8.25
ISC Drop Shipment | 4.44 | 5.10 | 6.50 | 6.70 | 5.50 | 4.80 | 6.50 | 7.00 | 7.25

b. Worldwide Nonpresort Mail (Full Service and ISC Drop Shipment)

i. Per Piece

| ($)
Full Service | 0.36
ISC Drop Shipment | 0.36

ii. Per Pound

| ($)
Full Service | 8.50
ISC Drop Shipment | 7.50

International Priority Airmail M-Bag

The price is based on the applicable per-pound price. The per-pound price applies to the net weight (gross weight of the sack minus the tare weight of the sack) of the mail for the specific rate group.

a. International Priority Airmail M-Bag (Full Service)

Maximum weight (pounds) | Price group: 1 ($) | Price group: 2 ($) | Price group: 3 ($) | Price group: 4 ($) | Price group: 5 ($) | Price group: 6 ($) | Price group: 7 ($) | Price group: 8 ($) | Price group: 9 ($)
11 | 23.10 | 29.70 | 39.60 | 56.65 | 48.40 | 46.20 | 54.45 | 53.35 | 61.60
For each additional pound or fraction thereof | 2.10 | 2.70 | 3.60 | 5.15 | 4.40 | 4.20 | 4.95 | 4.85 | 5.60

b. International Priority Airmail M-Bag (ISC Drop Shipment)

Maximum weight (pounds) | Price group: 1 ($) | Price group: 2 ($) | Price group: 3 ($) | Price group: 4 ($) | Price group: 5 ($) | Price group: 6 ($) | Price group: 7 ($) | Price group: 8 ($) | Price group: 9 ($)
5 | 19.30 | 25.00 | 30.85 | 44.50 | 38.75 | 38.65 | 44.80 | 42.50 | 47.75
6 | 19.75 | 25.60 | 31.85 | 46.25 | 39.90 | 39.45 | 45.95 | 43.85 | 49.60
7 | 20.20 | 26.20 | 32.85 | 48.00 | 41.05 | 40.25 | 47.10 | 45.20 | 51.45
8 | 20.65 | 26.80 | 33.85 | 49.75 | 42.20 | 41.05 | 48.25 | 46.55 | 53.30
9 | 21.10 | 27.40 | 34.85 | 51.50 | 43.35 | 41.85 | 49.40 | 47.90 | 55.15
10 | 21.55 | 28.00 | 35.85 | 53.25 | 44.50 | 42.65 | 50.55 | 49.25 | 57.00
11 | 22.00 | 28.60 | 36.85 | 55.00 | 45.65 | 43.45 | 51.70 | 50.60 | 58.85
For each additional pound or fraction thereof | 2.00 | 2.60 | 3.35 | 5.00 | 4.15 | 3.95 | 4.70 | 4.60 | 5.35

2230 International Surface Airlift (ISAL)

2230.1 Description

a. International Surface Airlift is an international bulk mailing service for mailing First-Class Mail International items. International Surface Airlift shipments are flown to the foreign destinations and entered into that country's surface or nonpriority mail system for delivery.

b. International Surface Airlift may include matter containing personal information, partially or wholly hand-written or typewritten matter, or bills or statements of account.

c. International Surface Airlift is not sealed against postal inspection. Mailing of matter by International Surface Airlift constitutes consent by the mailer to postal inspection of the contents, regardless of the physical closure.

d. Most prices for international postage are segmented into Price Groups with multiple destination countries represented in each Price Group. To identify what Price Group a destination country is in, refer to Country Price Group List for International Mail (4000). The number of Price Groups that exist depends on the category of mail. A particular destination country may fall into different Price Groups for different categories of mail.

2230.2 Size and Weight Limitations

Mailpiece Requirements (mailpieces contained within M-Bags are subject to the separate International Direct Sacks—M-Bag (2515) requirements)

a. Letters

| Length | Height | Thickness | Weight
Minimum | 5.5 inches | 3.5 inches | 0.007 inch | None.
Maximum | 11.5 inches | 6.125 inches | 0.25 inch | 3.5 ounces.

Notes

1. Packages of letter-size pieces of mail should be no thicker than approximately a handful of mail (4″ to 6″). A package or packet is defined as 10 or more pieces of mail to the same country separation or 1 pound or more regardless of the number of pieces.

b. Postcards

| Length | Height | Thickness | Weight
Minimum | 5.5 inches | 3.5 inches | 0.007 inch | None.
Maximum | 6 inches | 4.25 inches | 0.016 inch | not applicable.

c. Large Envelopes (Flats) ¹

| Length | Height | Thickness | Weight
Minimum ² | 11.5 inches | 6.125 inches | 0.25 inch | None.
Maximum | 15 inches | 12 inches | 0.75 inches | 4 pounds.
Notes:
¹ Packages of flat-size mail may be thicker than 6″, but weigh no more than 11 pounds. A package or packet is defined as 10 or more pieces of mail to the same country separation or 1 pound or more regardless of the number of pieces.
² Only one minimum dimension must be met.

d. Packages (Small Packets)

| Length | Height | Thickness | Weight
Minimum | Large enough to accommodate postage, address, and other required elements on the address side |  |  | None.
Maximum | 24 inches |  |  | 4 pounds.
| Length plus height plus thickness of 36 inches.

e. Rolls

| Length | Length plus twice the diameter | Weight
Minimum | 4 inches | 6.75 inches | None.
Maximum | 36 inches | 42 inches | 4 pounds.

2230.3 Minimum Volume Requirements

| Minimum volume requirements
Full Service and ISC Drop Shipment | 50 pounds per mailing.

2230.4 Price Categories

The following price categories are available for the product specified in this section:

• International Surface Air Lift (Full Service and ISC Drop Shipment)

○ Price Groups 1-9

• International Surface Air Lift M-Bags (Full Service and ISC Drop Shipment)

○ Price Groups 1-9

2230.5 Optional Features

The following additional postal services may be available in conjunction with the product specified in this section:

• None

2230.6 Prices

International Surface Air Lift (Full Service and ISC Drop Shipment)

The price is determined by adding the applicable per-piece price to the applicable per-pound price. The per-piece price applies to each mailpiece regardless of weight. The per-pound price applies to the net weight (gross weight of the sack minus the tare weight of the sack) of the mail for the specific rate group.

a. Per Piece

| Price group: 1 ($) | Price group: 2 ($) | Price group: 3 ($) | Price group: 4 ($) | Price group: 5 ($) | Price group: 6 ($) | Price group: 7 ($) | Price group: 8 ($) | Price group: 9 ($)
Full Service | 0.41 | 0.15 | 0.43 | 0.44 | 0.15 | 0.15 | 0.15 | 0.12 | 0.30
ISC Drop Shipment | 0.41 | 0.15 | 0.43 | 0.44 | 0.15 | 0.15 | 0.15 | 0.12 | 0.30

b. Per Pound

| Price group: 1 ($) | Price group: 2 ($) | Price group: 3 ($) | Price group: 4 ($) | Price group: 5 ($) | Price group: 6 ($) | Price group: 7 ($) | Price group: 8 ($) | Price group: 9 ($)
Full Service | 3.61 | 5.15 | 4.45 | 4.46 | 5.45 | 5.55 | 5.45 | 6.60 | 4.48
ISC Drop Shipment | 2.61 | 4.15 | 3.45 | 3.46 | 4.45 | 4.55 | 4.45 | 5.60 | 3.48

International Surface Air Lift M-Bags

The price is based on the applicable per-pound price. The per-pound price applies to the net weight (gross weight of the sack minus the tare weight of the sack) of the mail for the specific rate group.

a. International Surface Air Lift M-Bags (Full Service)

Maximum weight (pounds) | Price group: 1 ($) | Price group: 2 ($) | Price group: 3 ($) | Price group: 4 ($) | Price group: 5 ($) | Price group: 6 ($) | Price group: 7 ($) | Price group: 8 ($) | Price group: 9 ($)
11 | 17.60 | 18.70 | 22.00 | 30.80 | 25.85 | 25.85 | 28.60 | 35.75 | 33.00
For each additional pound or fraction thereof | 1.60 | 1.70 | 2.00 | 2.80 | 2.35 | 2.35 | 2.60 | 3.25 | 3.00

b. International Surface Air Lift M-Bag ISC (ISC Drop Shipment)

Maximum weight (pounds) | Price group: 1 ($) | Price group: 2 ($) | Price group: 3 ($) | Price group: 4 ($) | Price group: 5 ($) | Price group: 6 ($) | Price group: 7 ($) | Price group: 8 ($) | Price group: 9 ($)
5 | 15.90 | 14.30 | 11.45 | 16.25 | 12.90 | 14.40 | 12.05 | 16.20 | 18.25
6 | 16.00 | 14.85 | 12.75 | 18.40 | 14.60 | 15.85 | 14.35 | 19.00 | 20.25
7 | 16.10 | 15.40 | 14.05 | 20.55 | 16.30 | 17.30 | 16.65 | 21.80 | 22.25
8 | 16.20 | 15.95 | 15.35 | 22.70 | 18.00 | 18.75 | 18.95 | 24.60 | 24.25
9 | 16.30 | 16.50 | 16.65 | 24.85 | 19.70 | 20.20 | 21.25 | 27.40 | 26.25
10 | 16.40 | 17.05 | 17.95 | 27.00 | 21.40 | 21.65 | 23.55 | 30.20 | 28.25
11 | 16.50 | 17.60 | 19.25 | 29.15 | 23.10 | 23.10 | 25.85 | 33.00 | 30.25
For each additional pound or fraction thereof | 1.50 | 1.60 | 1.75 | 2.65 | 2.10 | 2.10 | 2.35 | 3.00 | 2.75

2235 International Direct Sacks—M-Bags

2235.1 Description

a. International Direct Sacks—M-Bags are direct sacks containing printed matter to a single addressee. Printed matter is defined as paper on which words, letters, characters, figures, images, or any combination thereof, not having the character of a bill or statement of account, or of actual or personal correspondence, have been reproduced by any process other than handwriting or typewriting.

b. M-Bags are available for both outbound and inbound international mail.

• Outbound International Direct Sacks—M-Bags are direct sacks of printed matter of domestic origin mailed to a single foreign addressee.

• Inbound air and surface International Direct Sacks—M-Bags are direct sacks of printed matter of foreign origin mailed to a single domestic addressee.

c. M-Bags may include articles of merchandise related to the enclosed printed matter as specified in the International Mail Manual (outbound) or the Universal Postal Convention (inbound).

d. M-Bags are not sealed against postal inspection. Mailing of matter by such service constitutes consent by the mailer to postal inspection of the contents, regardless of the physical closure.

e. Most prices for international postage are segmented into Price Groups with multiple destination countries represented in each Price Group. To identify what Price Group a destination country is in, refer to Country Price Group List for International Mail (4000). The number of Price Groups that exist depends on the category of mail. A particular destination country may fall into different Price Groups for different categories of mail.

2235.2 Size and Weight Limitations

| Length | Height | Thickness | Weight
Minimum |  |  |  | None.
Maximum Outbound | No defined size limits as long as articles being sent can be enclosed in the mailbag as specified in the International Mail Manual. |  |  | 66 pounds.¹
Maximum Inbound | No defined size limits as long as articles being sent can be enclosed in the mailbag as specified in the UPU Convention. |  |  | 66 pounds.¹
Notes:
¹ Includes the tare weight of the sack.

2235.3 Minimum Volume Requirements

| Minimum volume requirements
Outbound | None.
Inbound | None.

2235.4 Price Categories

The following price categories are available for the product specified in this section:

Outbound International Direct Sacks—M-Bags Price Categories

• M-Bags

○ Price Groups 1-9

Inbound International Direct Sacks—M-Bags Price Categories

As established by the originating foreign country conforming to Universal Postal Convention requirements.

2235.5 Optional Features

The following additional postal services may be available in conjunction with the product specified in this section:

Optional Features for Outbound International Direct Sacks—M-Bags

• International Ancillary Services (2250)

○ International Certificate of Mailing (2250.1)

Optional Features for Inbound International Direct Sacks—M-Bags

• None

2235.6 Prices

Outbound International Direct Sacks—M-Bags

The price is based on the applicable per-pound price. The per-pound price applies to the net weight (gross weight of the sack minus the tare weight of the sack) of the mail for the specific rate group.

Airmail M-Bag Prices ¹
Price group | Weight not over 11 lbs. | Additional per lb.
1 | $26.95 | $2.45
2 | 28.60 | 2.60
3 | 55.00 | 5.00
4 | 46.20 | 4.20
5 | 35.75 | 3.25
6 | 56.10 | 5.10
7 | 46.75 | 4.25
8 | 46.75 | 4.25
9 | 44.00 | 4.00
¹ Same as Price Groups 1-9 for Single-Piece First-Class Mail International (SPFCMI).

Inbound International Direct Sacks—M-Bags

Payment is made in accordance with Part III of the Universal Postal Convention and associated UPU Letter Post Regulations. This information is available at www.upu.int.

2240 International Money Transfer Service

2240.1 Description

Outbound and Inbound International Money Transfer services are available.

Outbound International Money Transfer

Outbound International Money Transfer service enables customers to make payments or transfer funds to individuals or firms in foreign destinations. This product includes both hardcopy money orders and electronic money transfers, which may be offered in cooperation with foreign postal administrations, commercial banks and money-transfer operators. The amount for a single international postal money order or electronic money transfer may be limited as specified in the International Mail Manual. Additional restrictions on the quantity and dollar value of international money transfers imposed by law, the destination country, or under requirements prescribed by the Postal Service may apply.

Inbound International Money Transfer Services

Inbound International Money Transfer services consist of two categories—paper money orders governed by the Universal Postal Convention and those governed by agreements with foreign postal administrations.

2240.2 Price Categories

The following price categories are available for the product specified in this section:

Outbound Price Categories

• International Money Orders

This applies to hardcopy money orders. A receipt of purchase is provided at no additional cost. The Postal Service will replace money orders that are spoiled or incorrectly prepared, regardless of who caused the error, without charge if replaced on the date originally issued. If a replacement money order is issued after the date of original issue because the original was spoiled or incorrectly prepared, the applicable money order fee may be collected from the customer. Inquiries or claims may be filed by the purchaser, payee, or endorsee. * * *

• Electronic Money Transfers

The service includes a receipt with the confirmation number, exchange rate, amount of foreign currency, and fee paid for this service. This service is available at select USPS retail outlets. There are no additional charges when the transferred funds are retrieved in the destination country.

Inbound Price Categories

• UPU

Payment is made in accordance with Article 8, RF 801 of the Manual of the Postal Payment Services. This information is available at www.upu.int.

• Postal Payment Services Agreements

Currently, the USPS has a number of International Money Order agreements for both outbound and inbound paper money orders.

2240.3 Prices

Outbound Prices

a. Outbound International Money Order

| ($)
Per International Money Order | 3.85

b. Outbound Electronic Money Transfer

| Transfer amount: Minimum amount ($) | Transfer amount: Maximum amount ($) | Transfer amount: Per transfer ($)
Electronic Money Transfer | 0.00 750.01 1,500.01 | 750.00 1,500.00 2,000.00 | 10.00 15.00 20.00
Refund | 0.00 | 2,000.00 | 25.00
Change of Recipient | 0.00 | 2,000.00 | 10.00

Inbound Prices

Foreign postal administrations pay the Postal Service for the delivery of inbound Money Transfer Service. The amount paid is set by the Universal Postal Union. Prices may also be set by bilateral or multilateral agreements.

2245 Inbound Surface Parcel Post (at non-UPU rates)

2245.1 Description

a. Inbound Surface Parcel Post (at non-UPU rates) is subject to the provisions of negotiated agreements.

b. Documents having the character of current and personal correspondence generally are prohibited in Inbound Surface Parcel Post.

c. Inbound Surface Parcel Post is not sealed against inspection.

d. Ordinary Inbound surface parcels may weigh up to 70 pounds and include reciprocal indemnity based on the weight of the parcel. Limits of indemnity based on weight correspond to the outbound limitations for Priority Mail International as specified in the International Mail Manual.

2245.2 Size and Weight Limitations

| Length | Height | Thickness | Weight
Minimum | 5.5 inches | None | 3.5 inch | None.
Maximum | 42 inches |  |  | 70 pounds.
| 79 inches in combined length and girth.
| For circular parcels: a length plus diameter of 64 inches.

2245.3 Minimum Volume Requirements

| Minimum volume requirements
Inbound Surface Parcel Post (at non-UPU rates) | None.

2245.4 Price Categories

The following price categories are available for the product specified in this section:

• Bilateral/Multilateral Agreements

○ Canada Post Bilateral Agreement

This agreement governs the exchange of air and surface parcel post mail between the U.S. and Canada. In particular, the agreement provides charges for delivery of outbound and inbound air and surface parcel post.

2245.5 Optional Features

The following additional postal services may be available in conjunction with the product specified in this section:

• International Ancillary Services (2250)

○ Inbound International Return Receipt (2250.3)

○ Inbound International Insurance (2250.5)

○ Customs Clearance and Delivery Fee (2250.6)

2245.6 Prices

Prices set by bilateral or multilateral agreements.

2250 International Ancillary Services

2250.1 International Certificate of Mailing

2250.1.1 Description

a. International Certificate of Mailing service furnishes evidence that mail has been presented to the Postal Service for mailing.

b. International Certificate of Mailing is available for Priority Mail International Flat-Rate Envelopes [and Small Flat-Rate Boxes], Priority Mail International parcels purchased without insurance, International Priority Airlift, and International Direct Sacks—M-Bags.

2250.1.2 Prices

Individual Pieces Prices

| ($)
Original certificate of mailing for listed pieces of ordinary Priority Mail International parcels | 1.10
Three or more pieces individually listed in a firm mailing book or an approved customer provided manifest (per piece) | 0.40
Each additional copy of original certificate of mailing or firm mailing bills (each copy) | 1.10

Multiple Pieces Prices

Identical pieces of ordinary Single-Piece First-Class Mail International paid with regular stamps, precanceled stamps, or meter stamps are subject to the following fees:

| ($)
Up to 1,000 pieces (one certificate for total number) | 6.00
Each additional 1,000 pieces or fraction | 0.70
Duplicate copy | 1.10

2250.2 International Registered Mail

2250.2.1 Description

a. International Registered Mail service provides additional protection and security in dispatch and conveyance in the United States for items mailed in a Priority Mail Flat-Rate Envelope [or Small Flat-Rate Box]. In destination countries registered mail items are handled in accordance with the internal procedures of the destination country.

b. Registered items may weigh up to 4 pounds.

c. For each registered item a mailing receipt is issued by the office of mailing and a record of delivery is maintained at the office of destination.

d. Regardless of the declared value of a registered item, the maximum amount of indemnity payable for loss, damage, or rifling is limited to the amount set by the Universal Postal Union in Article RL 155.4 of the Letter Post Regulations.

e. International Registered Mail service is subject to both U.S. Postal Service requirements and the prohibitions and restrictions of the destination country.

2250.2.2 Prices

| ($)
Per Piece | 10.80

2250.3 International Return Receipt

2250.3.1 Description

Outbound International Return Receipt

a. Outbound International Return Receipt service provides evidence to the mailer that an article has been received at the delivery address. It must be purchased at the time of mailing. The return receipt, which is attached to the article mailed, is signed at the point of delivery and is returned to the sender.

b. Outbound International Return Receipt service is subject to availability in the destination country for registered Priority Mail Flat-Rate Envelopes [and Small Flat-Rate Boxes], insured parcels, and Express Mail International.

Inbound International Return Receipt

a. Inbound International Return Receipt service provides evidence to the mailer that an article has been received at the delivery address. A return receipt is signed at the point of delivery and is returned to the sender.

b. Inbound International return receipt service is available for insured parcels.

2250.3.2 Prices

Outbound International Return Receipt

| ($)
Per Piece | 2.20

Inbound International Return Receipt

No additional payment.

2250.4 International Restricted Delivery

2250.4.1 Description

a. International Restricted Delivery service limits who may receive an item as determined by the internal requirements of the destination country.

b. International Restricted Delivery service is available only at the time of mailing for registered Priority Mail International Flat-Rate Envelopes [and Small Flat-Rate Boxes] accompanied by a return receipt, subject to availability in the destination country.

2250.4.2 Prices

| ($)
Per Piece | 4.30

2250.5 International Insurance

2250.5.1 Description

Outbound International Insurance

a. Optional outbound insurance may be purchased to protect against loss, damage, or rifling for Priority Mail International parcels and Priority Mail International [Large and Regular] Flat-Rate Boxes. When additional insurance is purchased for uninsured Priority Mail International parcels, it replaces the indemnity coverage.

b. Optional additional merchandise insurance may be purchased to protect against loss, damage, or rifling for Express Mail International and Global Express Guaranteed.

Inbound International Insurance

a. Inbound International Insurance is available for inbound air parcels from countries which offer the service on a reciprocal basis. Indemnity limits vary by country as specified in the International Mail Manual. The maximum insurance limit available to the United States is $5,000.00.

2250.5.2 Price Categories

The following price categories are available for the product specified in this section:

Outbound Price Categories

• Priority Mail International Insurance

Available for Priority Mail International parcels and Priority Mail International [Large and Regular] Flat-Rate Boxes.

• Express Mail International Merchandise Insurance

Available for Express Mail International merchandise.

• Global Express Guaranteed Insurance

Available for Global Express Guaranteed items that contain merchandise or documents.

2250.5.3 Prices

Outbound International Insurance

a. Priority Mail International Insurance.

Indemnity limit not over ($) | Canada ($) | All other countries ($)
50 | 1.70 | 2.45
100 | 2.15 | 3.35
200 | 2.60 | 4.30
300 | 4.60 | 5.25
400 | 5.55 | 6.20
500 | 6.50 | 7.15
600 | 7.45 | 8.10
675 | 8.40 | 9.05
700 | N/A | 9.05
Over 700 | N/A | 9.05 plus 0.95 for each 100.00 or fraction thereof over 700.00. Maximum indemnity varies by country.

b. Express Mail International Merchandise Insurance.

| ($) |  | ($) | ($)
Amount of coverage:
| 0.01 | To | 100.00 | 0.00
| 100.01 | To | 200.00 | 0.75
| 200.01 | To | 500.00 | 2.10
| 500.01 | To | 1,000.00 | 3.45
| 1,000.01 | To | 1,500.00 | 4.80
| 1,500.01 | To | 2,000.00 | 6.15
| 2,000.01 | To | 2,500.00 | 7.50
| 2,500.01 | To | 3,000.00 | 8.85
| 3,000.01 | To | 3,500.00 | 10.20
| 3,500.01 | To | 4,000.00 | 11.55
| 4,000.01 | To | 4,500.00 | 12.90
| 4,500.01 | To | 5,000.00 | 14.25

c. Global Express Guaranteed Insurance.

| ($) |  | ($) | ($)
Amount of coverage:
| 0.01 | To | 100.00 | 0.00
| 100.01 | To | 200.00 | 1.00
| 200.01 | To | 300.00 | 2.00
| 300.01 | To | 400.00 | 3.00
| 400.01 | To | 500.00 | 4.00

For document reconstruction insurance or non-document insurance coverage above 500.00, add 1.00 per 100.00 or fraction thereof, up to a maximum of 2,499.00 per shipment. Maximum indemnity varies by country.

Inbound International Insurance

| Up to |  | 2,499.00 | 24.00

Payment is made in accordance with Part III of the Universal Postal Convention, associated UPU Parcel Post Regulations. This information is available at www.upu.int. Other charges may be set under negotiated agreements.

2250.6 Custom Clearance and Delivery Fee

2250.6.1 Description

The Postal Service collects a fee on each inbound package on which customs duty or Internal Revenue tax is collected.

2250.6.2 Prices

| ($)
Per Dutiable Item | 5.35

PART D—Country Price Lists for International Mail

4000 Country Price Lists for International Mail

Country | Market dominant: SPFCMI¹ | Competitive: International Expedited Services: GXG ² | Competitive: International Expedited Services: EMI ³ | Competitive: International packages: PMI ⁴ | IPA & ISAL⁵
A
Afghanistan | 6 | 6 |  | 6 | 8
Albania | 4 | 4 | 4 | 4 | 5
Algeria | 8 | 4 | 8 | 8 | 8
Andorra | 5 | 5 | 5 | 5 | 3
Angola | 7 | 4 | 7 | 7 | 8
Anguilla | 9 | 7 | 9 | 9 | 6
Antigua & Barbuda | 9 | 7 |  | 9 | 6
Argentina | 9 | 8 | 9 | 9 | 6
Armenia | 4 | 4 | 4 | 4 | 8
Aruba | 9 | 7 | 9 | 9 | 6
Ascension | 7 |  |  |  | 5
Australia | 3 | 6 | [10] | [10] | 9
Austria | 5 | 5 | 5 | 5 | 3
Azerbaijan | 4 | 4 | 4 | 4 | 8
B
Bahamas | 9 | 7 | 9 | 9 | 6
Bahrain | 8 | 6 | 8 | 8 | 8
Bangladesh | 6 | 6 | 6 | 6 | 8
Barbados | 9 | 7 | 9 | 9 | 6
Belarus | 4 | 4 | 4 | 4 | 5
Belgium | 5 | 3 | 5 | 5 | 3
Belize | 9 | 8 | 9 | 9 | 6
Benin | 7 | 4 | 7 | 7 | 8
Bermuda | 9 | 7 | 9 | 9 | 6
Bhutan | 6 | 6 | 6 | 6 | 8
Bolivia | 9 | 8 | 9 | 9 | 6
Bosnia-Herzegovina | 4 | 4 | 4 | 4 | 5
Botswana | 7 | 4 | 7 | 7 | 8
Brazil | 9 | 8 | 9 | 9 | 6
British Virgin Islands | 9 | 7 |  | 9 | 6
Brunei Darussalam | 6 | 4 | 6 | 6 | 7
Bulgaria | 4 | 4 | 4 | 4 | 5
Burkina Faso | 7 | 4 | 7 | 7 | 8
Burma (Myanmar) | 6 |  |  | 6 | 8
Burundi | 7 | 4 | 7 | 7 | 8
C
Cambodia | 6 | 8 | 6 | 6 | 7
Cameroon | 7 | 4 | 7 | 7 | 8
Canada | 1 | 1 | 1 | 1 | 1
Cape Verde | 7 | 4 | 7 | 7 | 8
Cayman Islands | 9 | 7 | 9 | 9 | 6
Central African Republic | 7 |  | 7 | 7 | 8
Chad | 7 | 4 | 7 | 7 | 8
Chile | 9 | 8 | 9 | 9 | 6
China | 3 | 6 | 3 | 3 | 7
Colombia | 9 | 8 | 9 | 9 | 6
Comoros | 7 |  |  | 7 | 8
Congo, Democratic Republic of the | 7 | 4 | 7 | 7 | 8
Congo, Republic of the | 7 | 4 | 7 | 7 | 8
Costa Rica | 9 | 8 | 9 | 9 | 6
Cote d'Ivoire (Ivory Coast) | 7 | 4 | 7 | 7 | 8
Croatia | 4 | 4 | 4 | 4 | 5
Cuba | 9 |  |  |  | 6
Cyprus | 4 | 6 | 4 | 4 | 8
Czech Republic | 4 | 4 | 4 | 4 | 5
D
Denmark | 5 | 5 | 5 | 5 | 3
Djibouti | 7 | 4 | 7 | 7 | 8
Dominica | 9 | 7 | 9 | 9 | 6
Dominican Republic | 9 | 7 | 9 | 9 | 6
E
Ecuador | 9 | 8 | 9 | 9 | 6
Egypt | 8 | 6 | 8 | 8 | 8
El Salvador | 9 | 8 | 9 | 9 | 6
Equatorial Guinea | 7 |  | 7 | 7 | 8
Eritrea | 7 | 4 | 7 | 7 | 8
Estonia | 4 | 4 | 4 | 4 | 5
Ethiopia | 8 | 4 | 8 | 8 | 8
F
Falkland Islands | 9 |  |  |  | 6
Faroe Islands | 5 | 5 | 5 | 5 | 5
Fiji | 6 | 8 | 6 | 6 | 7
Finland | 5 | 5 | 5 | 5 | 3
France | 5 | 3 | 5 | 5 | 3
French Guiana | 9 | 8 | 9 | 9 | 6
French Polynesia | 6 | 4 | 6 | 6 | 7
G
Gabon | 7 | 4 | 7 | 7 | 8
Gambia | 7 | 4 |  | 7 | 8
Georgia, Republic of | 4 | 4 | 4 | 4 | 8
Germany | 5 | 3 | 5 | 5 | 3
Ghana | 7 | 4 | 7 | 7 | 8
Gibraltar | 5 | 4 |  | 5 | 3
Great Britain and Northern Ireland | 5 | 3 | 5 | 5 | 3
Greece | 5 | 5 | 5 | 5 | 3
Greenland | 5 | 5 |  | 5 | 3
Grenada | 9 | 7 | 9 | 9 | 6
Guadeloupe | 9 | 7 | 9 | 9 | 6
Guatemala | 9 | 8 | 9 | 9 | 6
Guinea | 7 | 4 | 7 | 7 | 8
Guinea-Bissau | 7 |  | 7 | 7 | 8
Guyana | 9 | 8 | 9 | 9 | 6
H
Haiti | 9 | 7 | 9 | 9 | 6
Honduras | 9 | 8 | 9 | 9 | 6
Hong Kong | 3 | 3 | 3 | 3 | 7
Hungary | 4 | 4 | 4 | 4 | 5
I
Iceland | 5 | 5 | 5 | 5 | 3
India | 6 | 6 | 6 | 6 | 8
Indonesia | 6 | 6 | 6 | 6 | 7
Iran | 8 |  |  | 8 | 8
Iraq | 8 | 6 | 8 | 8 | 8
Ireland (Eire) | 5 | 3 | 5 | 5 | 3
Israel | 8 | 6 | 8 | 8 | 3
Italy | 5 | 3 | 5 | 5 | 3
J
Jamaica | 9 | 7 | 9 | 9 | 6
Japan | 3 | 3 | 3 | 3 | 4
Jordan | 8 | 6 | 8 | 8 | 8
K
Kazakhstan | 6 | 4 | 6 | 6 | 8
Kenya | 7 | 4 | 7 | 7 | 8
Kiribati | 6 |  |  | 6 | 7
Korea, Democratic People's Republic of (North) | 6 |  |  |  | 7
Korea, Republic of (South) | 3 | 6 | 3 | 3 | 7
Kuwait | 8 | 6 | 8 | 8 | 8
Kyrgyzstan | 6 | 4 | 6 | 6 | 5
L
Laos | 6 | 8 | 6 | 6 | 7
Latvia | 4 | 4 | 4 | 4 | 5
Lebanon | 8 | 6 |  | 8 | 8
Lesotho | 7 | 4 | 7 | 7 | 8
Liberia | 7 | 4 | 7 | 7 | 8
Libya | 8 |  |  | 8 | 8
Liechtenstein | 5 | 5 | 5 | 5 | 3
Lithuania | 4 | 4 | 4 | 4 | 5
Luxembourg | 5 | 3 | 5 | 5 | 3
M
Macao | 6 | 3 | 6 | 6 | 5
Macedonia, Republic of | 4 | 4 | 4 | 4 | 5
Madagascar | 7 | 4 | 7 | 7 | 8
Malawi | 7 | 4 | 7 | 7 | 8
Malaysia | 6 | 6 | 6 | 6 | 7
Maldives | 6 | 6 | 6 | 6 | 8
Mali | 7 | 4 | 7 | 7 | 8
Malta | 5 | 5 | 5 | 5 | 8
Martinique | 9 | 7 | 9 | 9 | 6
Mauritania | 7 | 4 | 7 | 7 | 8
Mauritius | 7 | 4 | 7 | 7 | 8
Mexico | 2 | 2 | 2 | 2 | 2
Moldova | 4 | 4 | 4 | 4 | 8
Mongolia | 6 | 4 | 6 | 6 | 7
Montserrat | 9 | 7 |  | 9 | 6
Morocco | 8 | 4 | 8 | 8 | 8
Mozambique | 7 | 4 | 7 | 7 | 8
N
Namibia | 7 | 4 | 7 | 7 | 8
Nauru | 6 |  | 6 | 6 | 7
Nepal | 6 | 6 | 6 | 6 | 7
Netherlands | 5 | 3 | 5 | 5 | 3
Netherlands Antilles | 9 | 7 | 9 | 9 | 6
New Caledonia | 6 | 8 | 6 | 6 | 7
New Zealand | 6 | 6 | [10] | [10] | 4
Nicaragua | 9 | 8 | 9 | 9 | 6
Niger | 7 | 4 | 7 | 7 | 8
Nigeria | 7 | 4 | 7 | 7 | 8
Norway | 5 | 5 | 5 | 5 | 3
O
Oman | 8 | 6 | 8 | 8 | 8
P
Pakistan | 6 | 6 | 6 | 6 | 8
Panama | 9 | 8 | 9 | 9 | 6
Papua New Guinea | 6 | 8 | 6 | 6 | 7
Paraguay | 9 | 8 | 9 | 9 | 6
Peru | 9 | 8 | 9 | 9 | 6
Philippines | 6 | 6 | 6 | 6 | 7
Pitcairn Island | 6 |  |  | 6 | 7
Poland | 4 | 4 | 4 | 4 | 5
Portugal | 5 | 5 | 5 | 5 | 3
Q
Qatar | 8 | 6 | 8 | 8 | 8
R
Reunion | 9 | 4 |  | 9 | 8
Romania | 4 | 4 | 4 | 4 | 5
Russia | 4 | 4 | 4 | 4 | 5
Rwanda | 7 | 4 | 7 | 7 | 8
S
St. Christopher (St. Kitts) & Nevis | 9 | 7 | 9 | 9 | 6
Saint Helena | 7 |  |  | 7 | 8
Saint Lucia | 9 | 7 | 9 | 9 | 6
Saint Pierre & Miquelon | 4 |  |  | 4 | 6
Saint Vincent & Grenadines | 9 | 7 | 9 | 9 | 6
San Marino | 5 | 3 | 5 | 5 | 3
Sao Tome & Principe | 7 |  |  | 7 | 5
Saudi Arabia | 8 | 4 | 8 | 8 | 8
Senegal | 7 | 4 | 7 | 7 | 8
Serbia-Montenegro (Yugoslavia) | 5 | 4 | 5 | 5 | 5
Seychelles | 7 | 4 | 7 | 7 | 8
Sierra Leone | 7 |  | 7 | 7 | 8
Singapore | 6 | 3 | 6 | 6 | 7
Slovak Republic (Slovakia) | 5 | 4 | 5 | 5 | 5
Slovenia | 5 | 4 | 5 | 5 | 5
Solomon Islands | 6 |  | 6 | 6 | 7
Somalia |  |  |  |  | 8
South Africa | 7 | 4 | 7 | 7 | 8
Spain | 5 | 5 | 5 | 5 | 3
Sri Lanka | 6 | 6 | 6 | 6 | 8
Sudan | 7 |  | 7 | 7 | 8
Suriname | 9 | 8 |  | 9 | 6
Swaziland | 7 | 4 | 7 | 7 | 8
Sweden | 5 | 5 | 5 | 5 | 3
Switzerland | 5 | 5 | 5 | 5 | 3
Syrian Arab Republic (Syria) | 8 |  | 8 | 8 | 8
T
Taiwan | 6 | 3 | 6 | 6 | 7
Tajikistan | 6 |  | 6 | 6 | 8
Tanzania | 7 | 4 | 7 | 7 | 8
Thailand | 6 | 6 | 6 | 6 | 7
Togo | 7 | 4 | 7 | 7 | 8
Tonga | 6 |  |  | 6 | 7
Trinidad & Tobago | 9 | 7 | 9 | 9 | 6
Tristan da Cunha | 7 |  |  | 7 | 8
Tunisia | 8 | 4 | 8 | 8 | 8
Turkey | 4 | 6 | 4 | 4 | 5
Turkmenistan | 6 |  | 6 | 6 | 5
Turks & Caicos Islands | 9 | 7 | 9 | 9 | 6
Tuvalu | 6 |  |  | 6 | 7
U
Uganda | 7 | 4 | 7 | 7 | 8
Ukraine | 4 | 4 | 4 | 4 | 8
United Arab Emirates | 8 | 6 | 8 | 8 | 8
Uruguay | 9 | 8 | 9 | 9 | 6
Uzbekistan | 6 | 4 | 6 | 6 | 8
V
Vanuatu | 6 | 8 | 6 | 6 | 7
Vatican City | 5 | 3 | 5 | 5 | 3
Venezuela | 9 | 8 | 9 | 9 | 6
Vietnam | 6 | 6 | 6 | 6 | 7
W
Wallis & Futuna Islands | 6 | 4 |  | 6 | 7
Western Samoa | 6 |  | 6 | 6 | 7
Y
Yemen | 8 | 6 | 8 | 8 | 8
Z
Zambia | 7 | 4 | 7 | 7 | 8
Zimbabwe | 7 | 4 | 7 | 7 | 8
Notes.
¹ SPFCMI = Single-Piece First-Class Mail International. The same country price groups also apply to International Direct Sacks—M-Bags.
² GXG = Global Express Guaranteed.
³ EMI = Express Mail International.
⁴ PMI = Priority Mail International.
⁵ IPA = International Priority Airlift; ISAL = International Surface Airlift. ISAL service not available to all countries. See Individual Country Listings for availability.

[FR Doc. E8-28098 Filed 11-26-08; 8:45 am]

BILLING CODE 7710-12-P